POSTAL SERVICE

39 CFR Part 20

International Product and Price Changes

AGENCY: Postal Service.

ACTION: Final rule.

SUMMARY: The Postal Service, after considering comments on its proposal to change international postal rates, fees, and mail classifications, is implementing the new published prices and mailing standards. The Postal Service may negotiate customized prices and mailing standards.

DATES: Effective Date: 12:01 a.m. on May 14, 2007.

FOR FURTHER INFORMATION CONTACT: Obataiye B. Akinwole, 202-268-7262; Tom Philson, 202-268-7355; or Janet Mitchell, 202-268-7522.

SUPPLEMENTARY INFORMATION: On December 20, 2006, the Postal Service published in the Federal Register (71 FR 76230) a notice of proposed international product and pricing initiatives. That notice proposed a major redesign of international products, including changes in published prices and supporting mail classifications. The redesign included two main features:

First, we proposed to more closely align international products with their domestic counterparts for ease of use and added value to our customers. We merged eight mailing options into four new alternatives by combining products with overlapping service standards and prices. We renamed the international products to mirror comparable domestic product names. Table 1 outlines our restructured products. The realignment merges all economy services including Publishers' Periodicals and Books and Sheet Music into categories with better service. Mailers who previously mailed their publication at Publishers' Periodicals rates may now apply meter postage to each copy, or for bulk mailings, use a permit imprint on the copies and submit a printed PS Form 3700, Postage Statement EM—International Mail.

Table 1
Previous products | New products | Features
Global Express Guaranteed® (documents) | Global Express Guaranteed® | • 1-3 business day delivery. • Tracking available.
Global Express Guaranteed® (non-document) |  | • Money-back delivery guarantee¹. • Insurance included.
Global Express Mail® | Express Mail® International | • 3-5 average business day delivery ². • Tracking available. • Service guarantee to Australia, China, Hong Kong, Republic of Korea (South Korea), and Japan. • Insurance included. • Flat-rate envelope.
Airmail Parcel Post Economy Parcel Post | Priority Mail® International | • 6-10 average business day delivery ².
Global Priority Mail® |  | • Tracking to major destinations. • Limited Insurance included.³ • Flat-rate envelope and flat-rate box options available.
Airmail Letter Post Economy Letter Post | First-Class Mail® International | • Available worldwide. • Registered Mail service available.
¹ Some restrictions apply. See retail associate for money-back guarantee details.
² Average delivery times may vary based upon origin and destination.
³ Insurance is not available for the Priority Mail International flat-rate envelope.

Customers will be able to use the familiar expedited domestic packaging supplies for their expedited international shipments. We are also adding the popular flat-rate envelope option for Express Mail International, maintaining the flat-rate envelope option for Priority Mail International, and adding the flat-rate box option for Priority Mail International. In this final rule, we note the maximum weight limit for the Priority Mail International flat-rate box will be 20 pounds or the country specific maximum, whichever is less. In addition, we now offer more specific delivery time and tracking information to major destinations.

The second main feature of the redesign is an increase in published international prices by an average of 13 percent. This increase is necessary due to cost increases that occurred during a price freeze from January 2001 through January 2006.

We requested comments on our proposed rule and received 37 comments before the January 19, 2007, closing date. In response to requests from book mailers, we extended the comment period to February 2 and received an additional 28 comments. We included 5 comments received past the February 2 date. In total, we received comments from one industry association, two mailing agents, three equipment service providers, fifty-five mailers, and four individuals. We summarize the three major categories of comments and respond in items 1 through 3, below.

1. Price Changes for Bulk Letter Services

We received 36 comments questioning the magnitude of the published pricing change for International Priority Airmail (IPA) and International Surface Airlift (ISAL). Customized prices can be negotiated for IPA and ISAL. Over the past five years, the cost coverage for these services has deteriorated.

All international and domestic services must cover their attributable costs and make a reasonable contribution to our institutional costs. The published price increases will allow us to meet that requirement. The average published price increases for IPA and ISAL are 14.1 percent and 13.1 percent, respectively. Depending on the destination country group, price increases may be more or less than the average.

After carefully reviewing and considering all comments, we decided not to modify the published price increases in our proposal because these price increases are justified and necessary.

2. Restructuring Services

Twenty-three commenters objected to our proposal to eliminate surface-transported economy services. We have experienced continuing volume decline for these economy services. Economy services that use surface transportation account for only 2.7 percent of total international volume. The declining volumes indicate that demand for faster services has increased at the expense of services that use surface transportation to foreign destinations. As a result, efficient international surface delivery networks have diminished and costs have dramatically increased. In addition, the lack of efficient surface delivery networks has led to lengthy and inconsistent delivery times for economy service to many destinations.

We understand the concerns of mailers who use economy services, and customized agreements may be developed that involve different prices and standards from those presented in this rule.

3. Miscellaneous

Three respondents commented on our online discounts. Customers who purchase postage using Click-N-Ship at http://www.usps.com, or through an authorized online provider, will receive discounts of 10 percent on Global Express Guaranteed, 8 percent on Express Mail International, and 5 percent on Priority Mail International. These commenters asked us to ext end the discounts to postage meter customers. Postage meters cannot meet the specific requirements for the discounts; therefore, we cannot offer these discounts to postage meter customers.

One commenter expressed concern about eliminating Recorded Delivery, Aerogrammes, and the small flat-rate envelope for Global Priority Mail. We are eliminating Recorded Delivery and Aerogrammes because of a lack of customer demand, and the availability of alternatives. Over the past five years volumes declined for these services and costs increased. In FY 2005, Aerogramme revenue was under $200,000, with fewer than 250,000 Aerogrammes sent. Recorded Delivery revenue was approximately $3,000 on slightly over 1,000 transactions. As an alternative, Aerogramme mailers can use either postcards or First-Class Mail International services. Previously purchased Aerogrammes will remain mailable at the applicable First-Class Mail International rate. Recorded Delivery mailers can use Registered Mail.

Regarding the small flat-rate envelope for Global Priority Mail, as part of our product simplification and to more closely align domestic and international products, we will offer only one flat-rate envelope for Priority Mail International, using the same packaging as domestic Priority Mail. All items previously mailable in the Global Priority flat-rate envelope can be mailed in the new Priority Mail International flat-rate envelope. The maximum weight limit will remain 4 pounds.

We received one comment questioning our decision to charge the same rate for postcards as we do for letters. In simplifying the pricing schedule, we made the decision to charge the same price for the base First-Class Mail International letter as we do for postcards. Postcards are a small percentage of the total letter-post volume, and we believe that it would be more convenient for customers to use the same postage and stamps for both of these services. First-Class Mail International letters and cards are processed, transported, and delivered in the same operational stream and have the same cost structure. We limited the price increase for the base one-ounce First-Class Mail International letter to under the system-wide average in part because of the rate increase to existing postcard users. After carefully reviewing and considering this comment, we have decided not to modify the price increases we proposed for postcards.

One commenter questioned the proposed dimensional weight criteria for GXG. Dimensional weight determines the appropriate rate of postage based on the size of a shipment in relation to its weight. Our dimensional weight criteria are consistent with those used by the shipping industry. As the commenter noted, our rounding method needed clarification. We changed the rounding method to mirror that of the domestic rounding method used for Priority Mail.

We received two comments from mailers concerning the overall published price increase for international products and the effect this increase may have on their businesses. The average increase in international prices is 13 percent and is necessary because of cost increases that occurred during a price freeze from January 2001 through January 2006. Also, the GXG rates in the December 20, 2006, proposal were misaligned and have been corrected in this final rule.

When designing our published international prices, we are cognizant of the intense competitive environment in which we and our customers compete. For that reason, we moderated our increases in our pricing design. After carefully reviewing and considering these comments, we decided not to modify the price increases that we proposed because the price increases are justified and are necessary to cover our costs.

One commenter asked us to provide a list of country-specific extra services and weight options. We included the weight options for Express Mail International and Priority Mail International in this final rule.

We provide the updated IMM standards for our published prices, and how they are applied for each type of mail, below.

After reviewing and considering the comments, we adopt the following changes to the Mailing Standards of the United States Postal Service, International Mail Manual (IMM), incorporated by reference in the Code of Federal Regulations. See 39 CFR 20.1.

List of Subjects in 39 CFR Part 20

Foreign relations, International postal services.

PART 20—[AMENDED]

1. The authority citation for 39 CFR part 20 continues to read as follows:

Authority: 5 U.S.C. 552(a); 39 U.S.C. 401, 404, 407, 408.

2. Revise the Mailing Standards of the United States Postal Service, International Mail Manual (IMM) to incorporate the following postage rates, fees, and rate groups.

International Rates and Fees

Country Listing
Country | GXG ¹ rate group | EMS ² rate group | EMS max. weight limit (lb.) | PMI ³ rate group | PMI max. weight limit (lb.) | PMI insurance indemnity limit ($) | FCMI ⁴ rate group | IPA & ISAL ⁵ rate group
A
Afghanistan | 6 |  |  | 5 | 66 |  | 5 | 8
Albania | 4 | 4 | 22 | 4 | 44 |  | 5 | 5
Algeria | 4 | 8 | 44 | 8 | 44 |  | 5 | 8
Andorra | 5 | 5 | 66 | 5 | 66 | 5000 | 3 | 3
Angola | 4 | 7 | 44 | 7 | 44 |  | 5 | 8
Anguilla | 7 | 9 | 44 | 9 | 22 | 415 | 5 | 6
Antigua & Barbuda | 7 |  |  | 9 | 22 | 60 | 5 | 6
Argentina | 8 | 9 | 44 | 9 | 44 | 5000 | 5 | 6
Armenia | 4 | 4 | 44 | 4 | 44 | 875 | 5 | 8
Aruba | 7 | 9 | 44 | 9 | 44 | 830 | 5 | 6
Ascension |  |  |  |  |  |  | 5 | 5
Australia | 6 | 3 | 44 | 3 | 66 | 3644 | 4 | 9
Austria | 5 | 5 | 66 | 5 | 66 | 5000 | 3 | 3
Azerbaijan | 4 | 4 | 44 | 4 | 70 | 2915 | 5 | 8
B
Bahamas | 7 | 9 | 44 | 9 | 22 | ⁶ 1458/560 | 5 | 6
Bahrain | 6 | 8 | 44 | 8 | 44 |  | 5 | 8
Bangladesh | 6 | 6 | 44 | 6 | 44 | 5000 | 5 | 8
Barbados | 7 | 9 | 44 | 9 | 44 | 238 | 5 | 6
Belarus | 4 | 4 | 44 | 4 | 66 | 1312 | 5 | 5
Belgium | 3 | 5 | 66 | 5 | 66 | 650 | 3 | 3
Belize | 8 | 9 | 44 | 9 | 44 | 1600 | 5 | 6
Benin | 4 | 7 | 44 | 7 | 66 |  | 5 | 8
Bermuda | 7 | 9 | 44 | 9 | 44 | 440 | 5 | 6
Bhutan | 6 | 6 | 44 | 6 | 66 | 22 | 5 | 8
Bolivia | 8 | 9 | 44 | 9 | 70 |  | 5 | 6
Bosnia-Herzegovina | 4 | 4 | 66 | 4 | 44 | 5000 | 5 | 5
Botswana | 4 | 7 | 44 | 7 | 66 | 73 | 5 | 8
Brazil | 8 | 9 | 66 | 9 | 66 | 2915 | 5 | 6
British Virgin Islands | 7 |  |  | 9 | 44 | 500 | 5 | 6
Brunei Darussalam | 4 | 6 | 44 | 6 | 44 |  | 5 | 7
Bulgaria | 4 | 4 | 44 | 4 | 70 | 1115 | 5 | 5
Burkina Faso | 4 | 7 | 66 | 7 | 66 | 969 | 5 | 8
Burma (Myanmar) |  |  |  | 6 | 22 |  | 5 | 8
Burundi | 4 | 7 | 22 | 7 | 66 | 5000 | 5 | 8
C
Cambodia | 8 | 6 | 44 | 6 | 66 |  | 5 | 7
Cameroon | 4 | 7 | 44 | 7 | 66 | 5000 | 5 | 8
Canada | 1 | 1 | 66 | 1 | 66 | 675 | 1 | 1
Cape Verde | 4 | 7 | 44 | 7 | 44 |  | 5 | 8
Cayman Islands | 7 | 9 | 44 | 9 | 44 |  | 5 | 6
Central African Republic | 4 | 7 | 44 | 7 | 66 |  | 5 | 8
Chad | 4 | 7 | 44 | 7 | 44 | 185 | 5 | 8
Chile | 8 | 9 | 33 | 9 | 44 |  | 5 | 6
China | 6 | 3 | 66 | 3 | 66 | 1222 | 5 | 7
Colombia | 8 | 9 | 44 | 9 | 66 | 999 | 5 | 6
Comoros |  |  |  | 7 | 44 | 690 | 5 | 8
Congo, Democratic Republic of the | 4 | 7 | 44 | 7 | 66 |  | 5 | 8
Congo, Republic of the | 4 | 7 | 44 | 7 | 44 | 1685 | 5 | 8
Costa Rica | 8 | 9 | 44 | 9 | 66 |  | 5 | 6
Cote d'Ivoire (Ivory Coast) | 4 | 7 | 66 | 7 | 66 | 5000 | 5 | 8
Croatia | 4 | 4 | 66 | 4 | 66 | 5000 | 5 | 5
Cuba |  |  |  |  |  |  | 5 | 6
Cyprus | 6 | 4 | 70 | 4 | 70 | 5000 | 5 | 8
Czech Republic | 4 | 4 | 66 | 4 | 66 | 5000 | 5 | 5
D
Denmark | 5 | 5 | 66 | 5 | 66 | 650 | 3 | 3
Djibouti | 4 | 7 | 44 | 7 | 44 | 880 | 5 | 8
Dominica | 7 | 9 | 44 | 9 | 44 |  | 5 | 6
Dominican Republic | 7 | 9 | 44 | 9 | 44 |  | 5 | 6
E
Ecuador | 8 | 9 | 66 | 9 | 66 |  | 5 | 6
Egypt | 6 | 8 | 44 | 8 | 66 | 1685 | 5 | 8
El Salvador | 8 | 9 | 33 | 9 | 44 |  | 5 | 6
Equatorial Guinea | 4 | 7 | 44 | 7 | 22 |  | 5 | 8
Eritrea | 4 | 7 | 66 | 7 | 44 |  | 5 | 8
Estonia | 4 | 4 | 66 | 4 | 70 | 2187 | 5 | 5
Ethiopia | 4 | 8 | 44 | 8 | 66 |  | 5 | 8
F
Falkland Islands |  |  |  |  |  |  | 5 | 6
Faroe Islands | 5 | 5 | 44 | 5 | 70 | 5000 | 3 | 5
Fiji | 8 | 6 | 44 | 6 | 44 |  | 5 | 7
Finland | 5 | 5 | 66 | 5 | 70 | 650 | 3 | 3
France | 3 | 5 | 66 | 5 | 66 | 650 | 3 | 3
French Guiana | 8 | 9 | 66 | 9 | 66 | 5000 | 5 | 6
French Polynesia | 4 | 6 | 44 | 6 | 66 | 4519 | 5 | 7
G
Gabon | 4 | 7 | 44 | 7 | 44 | 523 | 5 | 8
Gambia | 4 |  |  | 7 | 66 |  | 5 | 8
Georgia, Republic of | 4 | 4 | 66 | 4 | 44 | 1458 | 5 | 8
Germany | 3 | 5 | 66 | 5 | 70 | 500 | 3 | 3
Ghana | 4 | 7 | 44 | 7 | 66 |  | 5 | 8
Gibraltar | 4 |  |  | 5 | 44 |  | 3 | 3
Great Britain & Northern Ireland | 3 | 5 | 66 | 5 | 66 | 650 | 3 | 3
Greece | 5 | 5 | 66 | 5 | 44 | 650 | 3 | 3
Greenland | 5 |  |  | 4 | 66 | 5000 | 3 | 3
Grenada | 7 | 9 | 22 | 9 | 44 | 350 | 5 | 6
Guadeloupe | 7 | 9 | 66 | 9 | 66 | 5000 | 5 | 6
Guatemala | 8 | 9 | 44 | 9 | 44 |  | 5 | 6
Guinea | 4 | 7 | 44 | 7 | 66 | 948 | 5 | 8
Guinea-Bissau | 4 | 7 | 44 | 7 | 66 | 2915 | 5 | 8
Guyana | 8 | 9 | 44 | 9 | 44 | 10 | 5 | 6
H
Haiti | 7 | 9 | 70 | 9 | 55 |  | 5 | 6
Honduras | 8 | 9 | 44 | 9 | 44 |  | 5 | 6
Hong Kong | 3 | 3 | 66 | 3 | 66 | 5000 | 5 | 7
Hungary | 4 | 4 | 44 | 4 | 44 | 5000 | 5 | 5
I
Iceland | 5 | 5 | 44 | 5 | 70 | 650 | 3 | 3
India | 6 | 6 | 44 | 6 | 44 | 2189 | 5 | 8
Indonesia | 6 | 6 | 22 | 6 | 44 |  | 5 | 7
Iran |  |  |  | 8 | 44 |  | 5 | 8
Iraq | 6 | 8 | 44 | 8 | 66 |  | 5 | 8
Ireland (Eire) | 3 | 5 | 66 | 5 | 66 | 650 | 3 | 3
Israel | 6 | 8 | 33 | 8 | 44 |  | 3 | 3
Italy | 3 | 5 | 66 | 5 | 66 | 650 | 3 | 3
J
Jamaica | 7 | 9 | 44 | 9 | 22 |  | 5 | 6
Japan | 3 | 3 | 66 | 3 | 66 | 5000 | 4 | 4
Jordan | 6 | 8 | 66 | 8 | 66 |  | 5 | 8
K
Kazakhstan | 4 | 6 | 44 | 6 | 44 | 5000 | 5 | 8
Kenya | 4 | 7 | 44 | 7 | 70 | 131 | 5 | 8
Kiribati |  |  |  | 6 | 44 |  | 5 | 7
Korea, Democratic People's Republic of (North) |  |  |  |  |  |  | 5 | 7
Korea, Republic of (South) | 6 | 3 | 66 | 3 | 44 | 5000 | 5 | 7
Kuwait | 6 | 8 | 44 | 8 | 66 | 2000 | 5 | 8
Kyrgyzstan | 4 | 6 | 44 | 6 | 44 | 5000 | 5 | 5
L
Laos | 8 | 6 | 44 | 6 | 44 |  | 5 | 7
Latvia | 4 | 4 | 44 | 4 | 70 | 1458 | 5 | 5
Lebanon | 6 |  |  | 8 | 66 | 65 | 5 | 8
Lesotho | 4 | 7 | 44 | 7 | 44 | 440 | 5 | 8
Liberia | 4 | 7 | 44 | 7 | 44 | 440 | 5 | 8
Libya |  |  |  | 8 | 44 |  | 5 | 8
Liechtenstein | 5 | 5 | 66 | 5 | 66 | 5000 | 3 | 3
Lithuania | 4 | 4 | 44 | 4 | 70 | 5000 | 5 | 5
Luxembourg | 3 | 5 | 66 | 5 | 66 | 650 | 3 | 3
M
Macao | 3 | 6 | 66 | 6 | 70 | 4227 | 5 | 5
Macedonia, Republic of | 4 | 4 | 66 | 4 | 70 | 2380 | 5 | 5
Madagascar | 4 | 7 | 66 | 7 | 44 | 199 | 5 | 8
Malawi | 4 | 7 | 44 | 7 | 66 |  | 5 | 8
Malaysia | 6 | 6 | 66 | 6 | 66 | 1429 | 5 | 7
Maldives | 6 | 6 | 44 | 6 | 66 |  | 5 | 8
Mali | 4 | 7 | 44 | 7 | 66 |  | 5 | 8
Malta | 5 | 5 | 66 | 5 | 66 |  | 5 | 8
Marshall Islands | 4 | 10 | 70 | 10 | 70 |  | 6 | 3
Martinique | 7 | 9 | 66 | 9 | 66 | 5000 | 5 | 6
Mauritania | 4 | 7 | 44 | 7 | 44 | 635 | 5 | 8
Mauritius | 4 | 7 | 44 | 7 | 44 | 165 | 5 | 8
Mexico | 2 | 2 | 66 | 2 | 44 |  | 2 | 2
Micronesia | 4 | 10 | 70 | 10 | 70 |  | 6 | 3
Moldova | 4 | 4 | 44 | 4 | 70 | 2915 | 5 | 8
Mongolia | 4 | 6 | 44 | 6 | 66 |  | 5 | 7
Montserrat | 7 |  |  | 9 | 44 | 2200 | 5 | 6
Morocco | 4 | 8 | 66 | 8 | 66 | 5000 | 5 | 8
Mozambique | 4 | 7 | 44 | 7 | 66 |  | 5 | 8
N
Namibia | 4 | 7 | 44 | 7 | 44 | 4405 | 5 | 8
Nauru |  | 6 | 44 | 6 | 44 | 220 | 5 | 7
Nepal | 6 | 6 | 44 | 6 | 44 |  | 5 | 7
Netherlands | 3 | 5 | 66 | 5 | 44 | 650 | 3 | 3
Netherlands Antilles | 7 | 9 | 44 | 9 | 44 | 5000 | 5 | 6
New Caledonia | 8 | 6 | 44 | 6 | 66 | 1775 | 5 | 7
New Zealand | 6 | 6 | 44 | 6 | 66 | 1025 | 4 | 4
Nicaragua | 8 | 9 | 44 | 9 | 66 |  | 5 | 6
Niger | 4 | 7 | 70 | 7 | 70 |  | 5 | 8
Nigeria | 4 | 7 | 44 | 7 | 66 |  | 5 | 8
Norway | 5 | 5 | 66 | 5 | 66 | 650 | 3 | 3
O
Oman | 6 | 8 | 44 | 8 | 44 | 575 | 5 | 8
P
Pakistan | 6 | 6 | 22 | 6 | 70 | 867 | 5 | 8
Panama | 8 | 9 | 66 | 9 | 70 |  | 5 | 6
Papua New Guinea | 8 | 6 | 44 | 6 | 44 | 445 | 5 | 7
Paraguay | 8 | 9 | 44 | 9 | 66 |  | 5 | 6
Peru | 8 | 9 | 66 | 9 | 70 |  | 5 | 6
Philippines | 6 | 6 | 44 | 6 | 44 |  | 5 | 7
Pitcairn Island |  |  |  | 6 | 22 |  | 5 | 7
Poland | 4 | 4 | 44 | 4 | 44 | 5000 | 5 | 5
Portugal | 5 | 5 | 66 | 5 | 66 | 650 | 3 | 3
Q
Qatar | 6 | 8 | 44 | 8 | 70 |  | 5 | 8
R
Reunion | 4 |  |  | 9 | 66 | 5000 | 5 | 8
Romania | 4 | 4 | 22 | 4 | 70 | 5000 | 5 | 5
Russia | 4 | 4 | 44 | 4 | 44 | 5000 | 5 | 5
Rwanda | 4 | 7 | 44 | 7 | 66 |  | 5 | 8
S
St. Christopher (St. Kitts) & Nevis | 7 | 9 | 44 | 9 | 44 | 242 | 5 | 6
Saint Helena |  |  |  | 7 | 44 | 170 | 5 | 8
Saint Lucia | 7 | 9 | 44 | 9 | 44 |  | 5 | 6
Saint Pierre & Miquelon |  |  |  | 4 | 66 | 5000 | 5 | 6
Saint Vincent & Grenadines | 7 | 9 | 44 | 9 | 22 | 130 | 5 | 6
San Marino | 3 | 5 | 66 | 5 | 66 | 5000 | 3 | 3
Sao Tome & Principe |  |  |  | 7 | 44 | 440 | 5 | 5
Saudi Arabia | 4 | 8 | 66 | 8 | 66 |  | 5 | 8
Senegal | 4 | 7 | 44 | 7 | 66 | 936 | 5 | 8
Serbia-Montenegro (Yugoslavia) | 4 | 5 | 70 | 5 | 70 | 5000 | 5 | 5
Seychelles | 4 | 7 | 44 | 7 | 70 |  | 5 | 8
Sierra Leone | 4 | 7 | 44 | 7 | 66 |  | 5 | 8
Singapore | 3 | 6 | 66 | 6 | 66 | 5000 | 5 | 7
Slovak Republic (Slovakia) | 4 | 5 | 66 | 5 | 66 | 650 | 5 | 5
Slovenia | 4 | 5 | 66 | 5 | 66 | 650 | 5 | 5
Solomon Islands |  | 6 | 44 | 6 | 44 |  | 5 | 7
Somalia |  |  |  |  |  |  |  | 8
South Africa | 4 | 7 | 44 | 7 | 66 |  | 5 | 8
Spain | 5 | 5 | 66 | 5 | 44 | 650 | 3 | 3
Sri Lanka | 6 | 6 | 44 | 6 | 66 | 35 | 5 | 8
Sudan |  | 7 | 44 | 7 | 44 |  | 5 | 8
Suriname | 8 |  |  | 9 | 44 | 535 | 5 | 6
Swaziland | 4 | 7 | 44 | 7 | 44 | 560 | 5 | 8
Sweden | 5 | 5 | 66 | 5 | 66 | 650 | 3 | 3
Switzerland | 5 | 5 | 66 | 5 | 66 | 650 | 3 | 3
Syrian Arab Republic (Syria) | 6 | 8 | 44 | 8 | 70 |  | 5 | 8
T
Taiwan | 3 | 6 | 33 | 6 | 44 | 1350 | 5 | 7
Tajikistan |  | 6 | 44 | 6 | 66 | 5000 | 5 | 8
Tanzania | 4 | 7 | 22 | 7 | 66 | 248 | 5 | 8
Thailand | 6 | 6 | 44 | 6 | 66 | 1458 | 5 | 7
Togo | 4 | 7 | 44 | 7 | 70 |  | 5 | 8
Tonga | 4 |  |  | 6 | 44 | 515 | 5 | 7
Trinidad & Tobago | 7 | 9 | 44 | 9 | 44 |  | 5 | 6
Tristan da Cunha |  |  |  | 7 | 22 |  | 5 | 8
Tunisia | 4 | 8 | 44 | 8 | 66 | 3834 | 5 | 8
Turkey | 6 | 4 | 44 | 4 | 66 | 952 | 5 | 5
Turkmenistan | 4 | 6 | 44 | 6 | 44 | 729 | 5 | 5
Turks & Caicos Islands | 7 |  |  | 9 | 44 |  | 5 | 6
Tuvalu |  |  |  | 6 | 55 | 675 | 5 | 7
U
Uganda | 4 | 7 | 22 | 7 | 66 |  | 5 | 8
Ukraine | 4 | 4 | 44 | 4 | 66 | 5000 | 5 | 8
United Arab Emirates | 6 | 8 | 44 | 8 | 70 | 5000 | 5 | 8
Uruguay | 8 | 9 | 44 | 9 | 66 |  | 5 | 6
Uzbekistan | 4 |  |  | 6 | 70 | 5000 | 5 | 8
V
Vanuatu | 8 | 6 | 22 | 6 | 44 |  | 5 | 7
Vatican City | 3 | 5 | 66 | 5 | 44 | 2380 | 3 | 3
Venezuela | 8 | 9 | 44 | 9 | 66 |  | 5 | 6
Vietnam | 6 | 6 | 44 | 6 | 70 |  | 5 | 7
W
Wallis & Futuna Islands | 4 |  |  | 6 | 66 | 1615 | 5 | 7
Western Samoa | 4 | 6 | 44 | 6 | 44 | 295 | 5 | 7
Y
Yemen | 6 | 8 | 66 | 8 | 66 | 820 | 5 | 8
Z
Zambia | 4 | 7 | 44 | 7 | 66 |  | 5 | 8
Zimbabwe | 4 | 7 | 44 | 7 | 44 |  | 5 | 8
¹ Global Express Guaranteed.
² Express Mail International.
³ Priority Mail International.
⁴ First-Class Mail International.
⁵ ISAL service not available to all countries. See IMM Country Listings for availability.
⁶ Bahamas: PMI Indemnity limit is $1458 to Nassau and Freeport and $560 to all other locations.

Global Express Guaranteed
Weight not over (pounds) | Rate group 1 | Rate group 2 | Rate group 3 | Rate group 4 | Rate group 5 | Rate group 6 | Rate group 7 | Rate group 8
0.5 | $28.50 | $28.75 | $37.00 | 75.00 | $38.00 | $38.00 | $37.00 | $52.00
1 | $41.00 | $42.50 | $49.00 | $93.00 | $58.00 | $55.00 | $47.00 | $65.00
2 | $44.50 | $47.50 | $56.00 | $107.75 | $65.75 | $63.45 | $54.20 | $80.90
3 | $48.00 | $52.50 | $63.00 | $122.50 | $73.50 | $71.90 | $61.40 | $96.80
4 | $51.50 | $57.50 | $70.00 | $137.25 | $81.25 | $80.35 | $68.60 | $112.70
5 | $55.00 | $62.50 | $77.00 | $152.00 | $89.00 | $88.80 | $75.80 | $128.60
6 | $58.50 | $67.50 | $84.00 | $166.75 | $96.75 | $97.25 | $83.00 | $144.50
7 | $62.00 | $72.50 | $91.00 | $181.50 | $104.50 | $105.70 | $90.20 | $160.40
8 | $65.50 | $77.50 | $98.00 | $196.25 | $112.25 | $114.15 | $97.40 | $176.30
9 | $69.00 | $82.50 | $105.00 | $211.00 | $120.00 | $122.60 | $104.60 | $192.20
10 | $72.50 | $87.50 | $112.00 | $225.75 | $127.75 | $131.05 | $111.80 | $208.10
11 | $75.35 | $90.65 | $116.30 | $237.00 | $132.65 | $137.45 | $116.05 | $218.10
12 | $78.20 | $93.80 | $120.60 | $248.25 | $137.55 | $143.85 | $120.30 | $228.10
13 | $81.05 | $96.95 | $124.90 | $259.50 | $142.45 | $150.25 | $124.55 | $238.10
14 | $83.90 | $100.10 | $129.20 | $270.75 | $147.35 | $156.65 | $128.80 | $248.10
15 | $86.75 | $103.25 | $133.50 | $282.00 | $152.25 | $163.05 | $133.05 | $258.10
16 | $89.60 | $106.40 | $137.80 | $293.25 | $157.15 | $169.45 | $137.30 | $268.10
17 | $92.45 | $109.55 | $142.10 | $304.50 | $162.05 | $175.85 | $141.55 | $278.10
18 | $95.30 | $112.70 | $146.40 | $315.75 | $166.95 | $182.25 | $145.80 | $288.10
19 | $98.15 | $115.85 | $150.70 | $327.00 | $171.85 | $188.65 | $150.05 | $298.10
20 | $101.00 | $119.00 | $155.00 | $338.25 | $176.75 | $195.05 | $154.30 | $308.10
21 | $103.85 | $122.15 | $159.30 | $349.50 | $181.65 | $201.45 | $158.55 | $318.10
22 | $106.70 | $125.30 | $163.60 | $360.75 | $186.55 | $207.85 | $162.80 | $328.10
23 | $109.55 | $128.45 | $167.90 | $372.00 | $191.45 | $214.25 | $167.05 | $338.10
24 | $112.40 | $131.60 | $172.20 | $383.25 | $196.35 | $220.65 | $171.30 | $348.10
25 | $115.25 | $134.75 | $176.50 | $394.50 | $201.25 | $227.05 | $175.55 | $358.10
26 | $118.10 | $137.90 | $180.80 | $405.75 | $206.15 | $233.45 | $179.80 | $368.10
27 | $120.95 | $141.05 | $185.10 | $417.00 | $211.05 | $239.85 | $184.05 | $378.10
28 | $123.80 | $144.20 | $189.40 | $428.25 | $215.95 | $246.25 | $188.30 | $388.10
29 | $126.65 | $147.35 | $193.70 | $439.50 | $220.85 | $252.65 | $192.55 | $398.10
30 | $129.50 | $150.50 | $198.00 | $450.75 | $225.75 | $259.05 | $196.80 | $408.10
31 | $132.35 | $153.65 | $202.30 | $462.00 | $230.65 | $265.45 | $201.05 | $418.10
32 | $135.20 | $156.80 | $206.60 | $473.25 | $235.55 | $271.85 | $205.30 | $428.10
33 | $138.05 | $159.95 | $210.90 | $484.50 | $240.45 | $278.25 | $209.55 | $438.10
34 | $140.90 | $163.10 | $215.20 | $495.75 | $245.35 | $284.65 | $213.80 | $448.10
35 | $143.75 | $166.25 | $219.50 | $507.00 | $250.25 | $291.05 | $218.05 | $458.10
36 | $146.60 | $169.40 | $223.80 | $518.25 | $255.15 | $297.45 | $222.30 | $468.10
37 | $149.45 | $172.55 | $228.10 | $529.50 | $260.05 | $303.85 | $226.55 | $478.10
38 | $152.30 | $175.70 | $232.40 | $540.75 | $264.95 | $310.25 | $230.80 | $488.10
39 | $155.15 | $178.85 | $236.70 | $552.00 | $269.85 | $316.65 | $235.05 | $498.10
40 | $158.00 | $182.00 | $241.00 | $563.25 | $274.75 | $323.05 | $239.30 | $508.10
41 | $160.10 | $184.10 | $245.30 | $571.50 | $279.55 | $329.20 | $243.45 | $516.60
42 | $162.20 | $186.20 | $249.60 | $579.75 | $284.35 | $335.35 | $247.60 | $525.10
43 | $164.30 | $188.30 | $253.90 | $588.00 | $289.15 | $341.50 | $251.75 | $533.60
44 | $166.40 | $190.40 | $258.20 | $596.25 | $293.95 | $347.65 | $255.90 | $542.10
45 | $168.50 | $192.50 | $262.50 | $604.50 | $298.75 | $353.80 | $260.05 | $550.60
46 | $170.60 | $194.60 | $266.80 | $612.75 | $303.55 | $359.95 | $264.20 | $559.10
47 | $172.70 | $196.70 | $271.10 | $621.00 | $308.35 | $366.10 | $268.35 | $567.60
48 | $174.80 | $198.80 | $275.40 | $629.25 | $313.15 | $372.25 | $272.50 | $576.10
49 | $176.90 | $200.90 | $279.70 | $637.50 | $317.95 | $378.40 | $276.65 | $584.60
50 | $179.00 | $203.00 | $284.00 | $645.75 | $322.75 | $384.55 | $280.80 | $593.10
51 | $181.10 | $205.10 | $288.30 | $654.00 | $327.55 | $390.70 | $284.95 | $601.60
52 | $183.20 | $207.20 | $292.60 | $662.25 | $332.35 | $396.85 | $289.10 | $610.10
53 | $185.30 | $209.30 | $296.90 | $670.50 | $337.15 | $403.00 | $293.25 | $618.60
54 | $187.40 | $211.40 | $301.20 | $678.75 | $341.95 | $409.15 | $297.40 | $627.10
55 | $189.50 | $213.50 | $305.50 | $687.00 | $346.75 | $415.30 | $301.55 | $635.60
56 | $191.60 | $215.60 | $309.80 | $695.25 | $351.55 | $421.45 | $305.70 | $644.10
57 | $193.70 | $217.70 | $314.10 | $703.50 | $356.35 | $427.60 | $309.85 | $652.60
58 | $195.80 | $219.80 | $318.40 | $711.75 | $361.15 | $433.75 | $314.00 | $661.10
59 | $197.90 | $221.90 | $322.70 | $720.00 | $365.95 | $439.90 | $318.15 | $669.60
60 | $200.00 | $224.00 | $327.00 | $728.25 | $370.75 | $446.05 | $322.30 | $678.10
61 | $202.10 | $226.10 | $331.30 | $736.50 | $375.55 | $452.20 | $326.45 | $686.60
62 | $204.20 | $228.20 | $335.60 | $744.75 | $380.35 | $458.35 | $330.60 | $695.10
63 | $206.30 | $230.30 | $339.90 | $753.00 | $385.15 | $464.50 | $334.75 | $703.60
64 | $208.40 | $232.40 | $344.20 | $761.25 | $389.95 | $470.65 | $338.90 | $712.10
65 | $210.50 | $234.50 | $348.50 | $769.50 | $394.75 | $476.80 | $343.05 | $720.60
66 | $212.60 | $236.60 | $352.80 | $777.75 | $399.55 | $482.95 | $347.20 | $729.10
67 | $214.70 | $238.70 | $357.10 | $786.00 | $404.35 | $489.10 | $351.35 | $737.60
68 | $216.80 | $240.80 | $361.40 | $794.25 | $409.15 | $495.25 | $355.50 | $746.10
69 | $218.90 | $242.90 | $365.70 | $802.50 | $413.95 | $501.40 | $359.65 | $754.60
70 | $221.00 | $245.00 | $370.00 | $810.75 | $418.75 | $507.55 | $363.80 | $763.10

Express Mail International
Weight not over (pounds) | Rate group 1 | Rate group 2 | Rate group 3 | Rate group 4 | Rate group 5 | Rate group 6 | Rate group 7 | Rate group 8 | Rate group 9 | Rate group 10
0.5 | $22.00 | $22.00 | $25.00 | $25.00 | $25.00 | $25.00 | $25.00 | $25.00 | $25.00 | $19.75
1 | $23.25 | $25.50 | $28.00 | $27.50 | $30.50 | $27.00 | $32.00 | $32.00 | $30.00 | $22.50
2 | $25.00 | $30.00 | $32.00 | $30.50 | $34.75 | $31.00 | $37.00 | $36.85 | $34.75 | $25.25
3 | $26.75 | $34.50 | $36.00 | $33.50 | $39.00 | $35.00 | $42.00 | $41.70 | $39.50 | $28.75
4 | $28.50 | $39.00 | $40.00 | $36.50 | $43.25 | $39.00 | $47.00 | $46.55 | $44.25 | $32.25
5 | $30.25 | $43.50 | $44.00 | $39.50 | $47.50 | $43.00 | $52.00 | $51.40 | $49.00 | $35.50
6 | $32.00 | $46.10 | $47.85 | $43.00 | $51.25 | $47.00 | $57.00 | $56.40 | $53.75 | $39.00
7 | $33.75 | $48.70 | $51.70 | $46.50 | $55.00 | $51.00 | $62.00 | $61.40 | $58.50 | $42.50
8 | $35.50 | $51.30 | $55.55 | $50.00 | $58.75 | $55.00 | $67.00 | $66.40 | $63.25 | $46.00
9 | $37.25 | $53.90 | $59.40 | $53.50 | $62.50 | $59.00 | $72.00 | $71.40 | $68.00 | $49.50
10 | $39.00 | $56.50 | $63.25 | $57.00 | $66.25 | $63.00 | $77.00 | $76.40 | $72.75 | $52.25
11 | $41.50 | $59.10 | $67.10 | $61.10 | $70.00 | $68.25 | $82.35 | $81.40 | $78.00 | $55.75
12 | $44.00 | $61.70 | $70.95 | $65.20 | $73.75 | $73.50 | $87.70 | $86.40 | $83.25 | $59.25
13 | $46.50 | $64.30 | $74.80 | $69.30 | $77.50 | $78.75 | $93.05 | $91.40 | $88.50 | $62.50
14 | $49.00 | $66.90 | $78.65 | $73.40 | $81.25 | $84.00 | $98.40 | $96.40 | $93.75 | $66.00
15 | $51.50 | $69.50 | $82.50 | $77.50 | $85.00 | $89.25 | $103.75 | $101.40 | $99.00 | $69.25
16 | $54.00 | $72.10 | $86.35 | $81.60 | $88.75 | $94.50 | $109.10 | $106.40 | $104.25 | $72.75
17 | $56.50 | $74.70 | $90.20 | $85.70 | $92.50 | $99.75 | $114.45 | $111.40 | $109.50 | $76.00
18 | $59.00 | $77.30 | $94.05 | $89.80 | $96.25 | $105.00 | $119.80 | $116.40 | $114.75 | $79.50
19 | $61.50 | $79.90 | $97.90 | $93.90 | $100.00 | $110.25 | $125.15 | $121.40 | $120.00 | $82.75
20 | $64.00 | $82.50 | $101.75 | $98.00 | $103.75 | $115.50 | $130.50 | $126.40 | $125.25 | $86.25
21 | $66.50 | $85.10 | $105.60 | $102.10 | $107.50 | $120.75 | $135.85 | $131.40 | $130.50 | $89.75
22 | $69.00 | $87.70 | $109.45 | $106.20 | $111.25 | $126.00 | $141.20 | $136.40 | $135.75 | $93.00
23 | $71.50 | $90.30 | $113.30 | $110.30 | $115.00 | $131.25 | $146.55 | $141.40 | $141.00 | $96.50
24 | $74.00 | $92.90 | $117.15 | $114.40 | $118.75 | $136.50 | $151.90 | $146.40 | $146.25 | $99.75
25 | $76.50 | $95.50 | $121.00 | $118.50 | $122.50 | $141.75 | $157.25 | $151.40 | $151.50 | $103.25
26 | $79.00 | $98.10 | $124.85 | $122.60 | $126.25 | $147.00 | $162.60 | $156.40 | $156.75 | $106.50
27 | $81.50 | $100.70 | $128.70 | $126.70 | $130.00 | $152.25 | $167.95 | $161.40 | $162.00 | $110.00
28 | $84.00 | $103.30 | $132.55 | $130.80 | $133.75 | $157.50 | $173.30 | $166.40 | $167.25 | $113.25
29 | $86.50 | $105.90 | $136.40 | $134.90 | $137.50 | $162.75 | $178.65 | $171.40 | $172.50 | $116.75
30 | $89.00 | $108.50 | $140.25 | $139.00 | $141.25 | $168.00 | $184.00 | $176.40 | $177.75 | $120.25
31 | $91.50 | $111.10 | $144.10 | $143.10 | $145.00 | $173.25 | $189.35 | $181.40 | $183.00 | $123.50
32 | $94.00 | $113.70 | $147.95 | $147.20 | $148.75 | $178.50 | $194.70 | $186.40 | $188.25 | $127.00
33 | $96.50 | $116.30 | $151.80 | $151.30 | $152.50 | $183.75 | $200.05 | $191.40 | $193.50 | $130.25
34 | $99.00 | $118.90 | $155.65 | $155.40 | $156.25 | $189.00 | $205.40 | $196.40 | $198.75 | $133.75
35 | $101.50 | $121.50 | $159.50 | $159.50 | $160.00 | $194.25 | $210.75 | $201.40 | $204.00 | $137.00
36 | $104.00 | $124.10 | $163.35 | $163.60 | $163.75 | $199.50 | $216.10 | $206.40 | $209.25 | $140.50
37 | $106.50 | $126.70 | $167.20 | $167.70 | $167.50 | $204.75 | $221.45 | $211.40 | $214.50 | $144.00
38 | $109.00 | $129.30 | $171.05 | $171.80 | $171.25 | $210.00 | $226.80 | $216.40 | $219.75 | $147.25
39 | $111.50 | $131.90 | $174.90 | $175.90 | $175.00 | $215.25 | $232.15 | $221.40 | $225.00 | $150.75
40 | $114.00 | $134.50 | $178.75 | $180.00 | $178.75 | $220.50 | $237.50 | $226.40 | $230.25 | $154.00
41 | $116.50 | $137.10 | $182.60 | $184.10 | $182.50 | $225.75 | $242.85 | $231.40 | $235.50 | $157.50
42 | $119.00 | $139.70 | $186.45 | $188.20 | $186.25 | $231.00 | $248.20 | $236.40 | $240.75 | $160.75
43 | $121.50 | $142.30 | $190.30 | $192.30 | $190.00 | $236.25 | $253.55 | $241.40 | $246.00 | $164.25
44 | $124.00 | $144.90 | $194.15 | $196.40 | $193.75 | $241.50 | $258.90 | $246.40 | $251.25 | $167.50
45 | $126.50 | $147.50 | $198.00 | $200.50 | $197.50 | $246.75 | $264.25 | $251.40 | $256.50 | $171.00
46 | $129.00 | $150.10 | $201.85 | $204.60 | $201.25 | $252.00 | $269.60 | $256.40 | $261.75 | $174.50
47 | $131.50 | $152.70 | $205.70 | $208.70 | $205.00 | $257.25 | $274.95 | $261.40 | $267.00 | $177.75
48 | $134.00 | $155.30 | $209.55 | $212.80 | $208.75 | $262.50 | $280.30 | $266.40 | $272.25 | $181.25
49 | $136.50 | $157.90 | $213.40 | $216.90 | $212.50 | $267.75 | $285.65 | $271.40 | $277.50 | $184.50
50 | $139.00 | $160.50 | $217.25 | $221.00 | $216.25 | $273.00 | $291.00 | $276.40 | $282.75 | $188.00
51 | $141.50 | $163.10 | $221.10 | $225.10 | $220.00 | $278.25 | $296.35 | $281.40 | $288.00 | $191.25
52 | $144.00 | $165.70 | $224.95 | $229.20 | $223.75 | $283.50 | $301.70 | $286.40 | $293.25 | $194.75
53 | $146.50 | $168.30 | $228.80 | $233.30 | $227.50 | $288.75 | $307.05 | $291.40 | $298.50 | $198.00
54 | $149.00 | $170.90 | $232.65 | $237.40 | $231.25 | $294.00 | $312.40 | $296.40 | $303.75 | $201.50
55 | $151.50 | $173.50 | $236.50 | $241.50 | $235.00 | $299.25 | $317.75 | $301.40 | $309.00 | $205.00
56 | $154.00 | $176.10 | $240.35 | $245.60 | $238.75 | $304.50 | $323.10 | $306.40 | $314.25 | $208.25
57 | $156.50 | $178.70 | $244.20 | $249.70 | $242.50 | $309.75 | $328.45 | $311.40 | $319.50 | $211.75
58 | $159.00 | $181.30 | $248.05 | $253.80 | $246.25 | $315.00 | $333.80 | $316.40 | $324.75 | $215.00
59 | $161.50 | $183.90 | $251.90 | $257.90 | $250.00 | $320.25 | $339.15 | $321.40 | $330.00 | $218.50
60 | $164.00 | $186.50 | $255.75 | $262.00 | $253.75 | $325.50 | $344.50 | $326.40 | $335.25 | $221.75
61 | $166.50 | $189.10 | $259.60 | $266.10 | $257.50 | $330.75 | $349.85 | $331.40 | $340.50 | $225.25
62 | $169.00 | $191.70 | $263.45 | $270.20 | $261.25 | $336.00 | $355.20 | $336.40 | $345.75 | $228.75
63 | $171.50 | $194.30 | $267.30 | $274.30 | $265.00 | $341.25 | $360.55 | $341.40 | $351.00 | $232.00
64 | $174.00 | $196.90 | $271.15 | $278.40 | $268.75 | $346.50 | $365.90 | $346.40 | $356.25 | $235.50
65 | $176.50 | $199.50 | $275.00 | $282.50 | $272.50 | $351.75 | $371.25 | $351.40 | $361.50 | $238.75
66 | $179.00 | $202.10 | $278.85 | $286.60 | $276.25 | $357.00 | $376.60 | $356.40 | $366.75 | $242.25
67 |  |  |  | $290.70 |  | $362.25 | $381.95 | $361.40 | $372.00 | $245.50
68 |  |  |  | $294.80 |  | $367.50 | $387.30 | $366.40 | $377.25 | $249.00
69 |  |  |  | $298.90 |  | $372.75 | $392.65 | $371.40 | $382.50 | $252.25
70 |  |  |  | $303.00 |  | $378.00 | $398.00 | $376.40 | $387.75 | $255.75

Express Mail International—Flat-Rate Envelope
Destination country | Envelope
CANADA & MEXICO | $22.00
ALL OTHER COUNTRIES | $25.00

Priority Mail International ¹
Weight not over (pounds) | Rate group 1 | Rate group 2 | Rate group 3 | Rate group 4 | Rate group 5 | Rate group 6 | Rate group 7 | Rate group 8 | Rate group 9 | Rate group 10
1 | $16.00 | $16.50 | $21.00 | $18.50 | $20.00 | $18.50 | $21.00 | $20.00 | $18.00 | $10.20
2 | $17.30 | $19.75 | $25.25 | $21.75 | $24.00 | $22.70 | $25.50 | $24.00 | $21.60 | $12.10
3 | $18.60 | $23.00 | $29.50 | $25.00 | $28.00 | $26.90 | $30.00 | $28.00 | $25.20 | $14.30
4 | $19.90 | $26.25 | $33.75 | $28.25 | $32.00 | $31.10 | $34.50 | $32.00 | $28.80 | $16.60
5 | $21.20 | $29.50 | $38.00 | $31.50 | $36.00 | $35.30 | $39.00 | $36.00 | $32.40 | $18.70
6 | $22.50 | $31.80 | $41.60 | $34.65 | $39.30 | $39.90 | $43.50 | $40.35 | $35.90 | $20.90
7 | $23.80 | $34.10 | $45.20 | $37.80 | $42.60 | $44.50 | $48.00 | $44.70 | $39.40 | $23.10
8 | $25.10 | $36.40 | $48.80 | $40.95 | $45.90 | $49.10 | $52.50 | $49.05 | $42.90 | $25.40
9 | $26.40 | $38.70 | $52.40 | $44.10 | $49.20 | $53.70 | $57.00 | $53.40 | $46.40 | $27.70
10 | $27.70 | $41.00 | $56.00 | $47.25 | $52.50 | $58.30 | $61.50 | $57.75 | $49.90 | $29.90
11 | $29.10 | $43.30 | $59.60 | $50.85 | $55.80 | $62.90 | $65.85 | $62.10 | $53.40 | $32.20
12 | $30.50 | $45.60 | $63.20 | $54.45 | $59.10 | $67.50 | $70.20 | $66.45 | $56.90 | $34.40
13 | $31.90 | $47.90 | $66.80 | $58.05 | $62.40 | $72.10 | $74.55 | $70.80 | $60.40 | $36.60
14 | $33.30 | $50.20 | $70.40 | $61.65 | $65.70 | $76.70 | $78.90 | $75.15 | $63.90 | $38.70
15 | $34.70 | $52.50 | $74.00 | $65.25 | $69.00 | $81.30 | $83.25 | $79.50 | $67.40 | $40.90
16 | $36.10 | $54.80 | $77.60 | $68.85 | $72.30 | $85.90 | $87.60 | $83.85 | $70.90 | $42.90
17 | $37.50 | $57.10 | $81.20 | $72.45 | $75.60 | $90.50 | $91.95 | $88.20 | $74.40 | $44.85
18 | $38.90 | $59.40 | $84.80 | $76.05 | $78.90 | $95.10 | $96.30 | $92.55 | $77.90 | $46.85
19 | $40.30 | $61.70 | $88.40 | $79.65 | $82.20 | $99.70 | $100.65 | $96.90 | $81.40 | $48.85
20 | $41.70 | $64.00 | $92.00 | $83.25 | $85.50 | $104.30 | $105.00 | $101.25 | $84.90 | $50.80
21 | $43.10 | $66.30 | $95.60 | $86.85 | $88.80 | $108.90 | $109.35 | $105.60 | $88.40 | $52.80
22 | $44.50 | $68.60 | $99.20 | $90.45 | $92.10 | $113.50 | $113.70 | $109.95 | $91.90 | $54.80
23 | $45.90 | $70.90 | $102.80 | $94.05 | $95.40 | $118.10 | $118.05 | $114.30 | $95.40 | $56.75
24 | $47.30 | $73.20 | $106.40 | $97.65 | $98.70 | $122.70 | $122.40 | $118.65 | $98.90 | $58.75
25 | $48.70 | $75.50 | $110.00 | $101.25 | $102.00 | $127.30 | $126.75 | $123.00 | $102.40 | $60.70
26 | $50.10 | $77.80 | $113.60 | $104.85 | $105.30 | $131.90 | $131.10 | $127.35 | $105.90 | $62.65
27 | $51.50 | $80.10 | $117.20 | $108.45 | $108.60 | $136.50 | $135.45 | $131.70 | $109.40 | $64.65
28 | $52.90 | $82.40 | $120.80 | $112.05 | $111.90 | $141.10 | $139.80 | $136.05 | $112.90 | $66.60
29 | $54.30 | $84.70 | $124.40 | $115.65 | $115.20 | $145.70 | $144.15 | $140.40 | $116.40 | $68.55
30 | $55.70 | $87.00 | $128.00 | $119.25 | $118.50 | $150.30 | $148.50 | $144.75 | $119.90 | $70.55
31 | $57.10 | $89.30 | $131.60 | $122.85 | $121.80 | $154.90 | $152.85 | $149.10 | $123.40 | $72.50
32 | $58.50 | $91.60 | $135.20 | $126.45 | $125.10 | $159.50 | $157.20 | $153.45 | $126.90 | $74.45
33 | $59.90 | $93.90 | $138.80 | $130.05 | $128.40 | $164.10 | $161.55 | $157.80 | $130.40 | $76.40
34 | $61.30 | $96.20 | $142.40 | $133.65 | $131.70 | $168.70 | $165.90 | $162.15 | $133.90 | $78.35
35 | $62.70 | $98.50 | $146.00 | $137.25 | $135.00 | $173.30 | $170.25 | $166.50 | $137.40 | $80.30
36 | $64.10 | $100.80 | $149.60 | $140.85 | $138.30 | $177.90 | $174.60 | $170.85 | $140.90 | $82.40
37 | $65.50 | $103.10 | $153.20 | $144.45 | $141.60 | $182.50 | $178.95 | $175.20 | $144.40 | $84.50
38 | $66.90 | $105.40 | $156.80 | $148.05 | $144.90 | $187.10 | $183.30 | $179.55 | $147.90 | $86.65
39 | $68.30 | $107.70 | $160.40 | $151.65 | $148.20 | $191.70 | $187.65 | $183.90 | $151.40 | $88.70
40 | $69.70 | $110.00 | $164.00 | $155.25 | $151.50 | $196.30 | $192.00 | $188.25 | $154.90 | $90.80
41 | $71.10 | $112.30 | $167.60 | $158.85 | $154.80 | $200.90 | $196.35 | $192.60 | $158.40 | $92.85
42 | $72.50 | $114.60 | $171.20 | $162.45 | $158.10 | $205.50 | $200.70 | $196.95 | $161.90 | $94.95
43 | $73.90 | $116.90 | $174.80 | $166.05 | $161.40 | $210.10 | $205.05 | $201.30 | $165.40 | $97.05
44 | $75.30 | $119.20 | $178.40 | $169.65 | $164.70 | $214.70 | $209.40 | $205.65 | $168.90 | $99.10
45 | $76.70 |  | $182.00 | $173.25 | $168.00 | $219.30 | $213.75 | $210.00 | $172.40 | $101.20
46 | $78.10 |  | $185.60 | $176.85 | $171.30 | $223.90 | $218.10 | $214.35 | $175.90 | $103.25
47 | $79.50 |  | $189.20 | $180.45 | $174.60 | $228.50 | $222.45 | $218.70 | $179.40 | $105.35
48 | $80.90 |  | $192.80 | $184.05 | $177.90 | $233.10 | $226.80 | $223.05 | $182.90 | $107.45
49 | $82.30 |  | $196.40 | $187.65 | $181.20 | $237.70 | $231.15 | $227.40 | $186.40 | $109.50
50 | $83.70 |  | $200.00 | $191.25 | $184.50 | $242.30 | $235.50 | $231.75 | $189.90 | $111.55
51 | $85.10 |  | $203.60 | $194.85 | $187.80 | $246.90 | $239.85 | $236.10 | $193.40 | $113.65
52 | $86.50 |  | $207.20 | $198.45 | $191.10 | $251.50 | $244.20 | $240.45 | $196.90 | $115.70
53 | $87.90 |  | $210.80 | $202.05 | $194.40 | $256.10 | $248.55 | $244.80 | $200.40 | $117.85
54 | $89.30 |  | $214.40 | $205.65 | $197.70 | $260.70 | $252.90 | $249.15 | $203.90 | $119.90
55 | $90.70 |  | $218.00 | $209.25 | $201.00 | $265.30 | $257.25 | $253.50 | $207.40 | $122.00
56 | $92.10 |  | $221.60 | $212.85 | $204.30 | $269.90 | $261.60 | $257.85 | $210.90 | $124.05
57 | $93.50 |  | $225.20 | $216.45 | $207.60 | $274.50 | $265.95 | $262.20 | $214.40 | $126.15
58 | $94.90 |  | $228.80 | $220.05 | $210.90 | $279.10 | $270.30 | $266.55 | $217.90 | $128.20
59 | $96.30 |  | $232.40 | $223.65 | $214.20 | $283.70 | $274.65 | $270.90 | $221.40 | $130.30
60 | $97.70 |  | $236.00 | $227.25 | $217.50 | $288.30 | $279.00 | $275.25 | $224.90 | $132.35
61 | $99.10 |  | $239.60 | $230.85 | $220.80 | $292.90 | $283.35 | $279.60 | $228.40 | $134.45
62 | $100.50 |  | $243.20 | $234.45 | $224.10 | $297.50 | $287.70 | $283.95 | $231.90 | $136.50
63 | $101.90 |  | $246.80 | $238.05 | $227.40 | $302.10 | $292.05 | $288.30 | $235.40 | $138.65
64 | $103.30 |  | $250.40 | $241.65 | $230.70 | $306.70 | $296.40 | $292.65 | $238.90 | $140.70
65 | $104.70 |  | $254.00 | $245.25 | $234.00 | $311.30 | $300.75 | $297.00 | $242.40 | $142.80
66 | $106.10 |  | $257.60 | $248.85 | $237.30 | $315.90 | $305.10 | $301.35 | $245.90 | $144.85
67 |  |  |  | $252.45 | $240.60 | $320.50 | $309.45 | $305.70 | $249.40 | $146.95
68 |  |  |  | $256.05 | $243.90 | $325.10 | $313.80 | $310.05 | $252.90 | $149.00
69 |  |  |  | $259.65 | $247.20 | $329.70 | $318.15 | $314.40 | $256.40 | $151.10
70 |  |  |  | $263.25 | $250.50 | $334.30 | $322.50 | $318.75 | $259.90 | $153.20
¹ Merchandise is permitted, but written communications having the nature of current and personal correspondence are not permitted.

Priority Mail International—Flat-Rate Envelope ¹
Destination country | Envelope
Canada & Mexico | $9.00
All other countries | $11.00
¹ May contain items which may be sent as First-Class Mail International. The maximum weight is 4 lbs.

Priority Mail International—Flat-Rate Box ¹
Destination country | Box
Canada & Mexico | $23.00
All other countries | $37.00
¹ Merchandise is permitted, but written communications having the nature of current and personal correspondence are not permitted. The maximum weight is 20 lbs. or the limit set by the individual country.

Online Discounts
Service | Global express guaranteed | Express mail international | Priority mail international
Discount | 10% | 8% | 5%

First-Class Mail International
Weight not over (oz.) | Rate groups: 1 | Rate groups: 2 | Rate groups: 3 | Rate groups: 4 | Rate groups: 5 | Rate groups: 6
1.0 | $0.69 | $0.69 | $0.90 | $0.90 | $0.90 | $0.61
2.0 | $1.00 | $1.12 | $1.80 | $1.80 | $1.80 | $1.07
3.0 | $1.31 | $1.55 | $2.70 | $2.70 | $2.70 | $1.53
4.0 | $1.62 | $1.98 | $3.60 | $3.60 | $3.60 | $1.99
5.0 | $1.93 | $2.41 | $4.50 | $4.50 | $4.50 | $2.45
6.0 | $2.24 | $2.84 | $5.40 | $5.40 | $5.40 | $2.92
7.0 | $2.55 | $3.27 | $6.30 | $6.30 | $6.30 | $3.38
8.0 | $2.86 | $3.70 | $7.20 | $7.20 | $7.20 | $3.84
12.0 | $3.76 | $5.10 | $8.80 | $8.65 | $8.65 | $5.15
16.0 | $4.66 | $6.50 | $10.40 | $10.10 | $10.10 | $6.21
20.0 | $5.56 | $7.90 | $12.00 | $11.55 | $11.55 | $7.27
24.0 | $6.46 | $9.30 | $13.60 | $13.00 | $13.00 | $8.33
28.0 | $7.36 | $10.70 | $15.20 | $14.45 | $14.45 | $9.39
32.0 | $8.26 | $12.10 | $16.80 | $15.90 | $15.90 | $10.45
36.0 | $9.16 | $13.50 | $18.40 | $17.35 | $17.35 | $11.51
40.0 | $10.06 | $14.90 | $20.00 | $18.80 | $18.80 | $12.57
44.0 | $10.96 | $16.30 | $21.60 | $20.25 | $20.25 | $13.63
48.0 | $11.86 | $17.70 | $23.20 | $21.70 | $21.70 | $14.69
52.0 | $12.76 | $19.10 | $24.80 | $23.15 | $23.15 | $15.75
56.0 | $13.66 | $20.50 | $26.40 | $24.60 | $24.60 | $16.81
60.0 | $14.56 | $21.90 | $28.00 | $26.05 | $26.05 | $17.87
64.0 | $15.46 | $23.30 | $29.60 | $27.50 | $27.50 | $18.93

Postal Cards and Postcards
Destination country | Postage rate
Canada and Mexico | $0.69
Republic of the Marshall Islands and Federated States of Micronesia | $0.52
All Other Countries | $0.90

International Priority Airmail (IPA)
Rate groups | Per piece | Full service per lb. | ISC drop shipment per lb.
1 | $0.33 | $4.55 | $3.55
2 | 0.15 | 6.10 | 5.10
3 | 0.32 | 7.50 | 6.50
4 | 0.32 | 7.70 | 6.70
5 | 0.15 | 6.50 | 5.50
6 | 0.15 | 5.80 | 4.80
7 | 0.15 | 7.50 | 6.50
8 | 0.12 | 8.00 | 7.00
9 | 0.27 | 8.25 | 7.25
Worldwide | 0.25 | 8.50 | 7.50

International Priority Airmail (IPA) M-Bag—Full Service
Rate groups | Full service per lb.
1 | $2.10
2 | 2.70
3 | 3.60
4 | 5.15
5 | 4.40
6 | 4.20
7 | 4.95
8 | 4.85
9 | 5.60
Note: M-bags are subject to the minimum rate for 11 pounds.

International Priority Airmail (IPA) M-Bag—ISC Drop SHIPMENT
Weight not over (lb.) | Rate groups: 1 | Rate groups: 2 | Rate groups: 3 | Rate groups: 4 | Rate groups: 5 | Rate groups: 6 | Rate groups: 7 | Rate groups: 8 | Rate groups: 9
5 | $19.30 | $25.00 | $30.85 | $44.50 | $38.75 | $38.65 | $44.80 | $42.50 | $47.75
6 | 19.75 | 25.60 | 31.85 | 46.25 | 39.90 | 39.45 | 45.95 | 43.85 | 49.60
7 | 20.20 | 26.20 | 32.85 | 48.00 | 41.05 | 40.25 | 47.10 | 45.20 | 51.45
8 | 20.65 | 26.80 | 33.85 | 49.75 | 42.20 | 41.05 | 48.25 | 46.55 | 53.30
9 | 21.10 | 27.40 | 34.85 | 51.50 | 43.35 | 41.85 | 49.40 | 47.90 | 55.15
10 | 21.55 | 28.00 | 35.85 | 53.25 | 44.50 | 42.65 | 50.55 | 49.25 | 57.00
11 | 22.00 | 28.60 | 36.85 | 55.00 | 45.65 | 43.45 | 51.70 | 50.60 | 58.85
Each additional pound or fraction of a pound | 2.00 | 2.60 | 3.35 | 5.00 | 4.15 | 3.95 | 4.70 | 4.60 | 5.35

International Surface Air Lift (ISAL)
Rate groups | Per piece | Full service per lb. | Direct shipment per lb. | ISC drop shipment per lb.
1 | $0.32 | $3.20 | $2.70 | $2.20
2 | 0.15 | 5.15 | 4.65 | 4.15
3 | 0.30 | 4.00 | 3.50 | 3.00
4 | 0.32 | 4.35 | 3.85 | 3.35
5 | 0.15 | 5.45 | 4.95 | 4.45
6 | 0.15 | 5.55 | 5.05 | 4.55
7 | 0.15 | 5.45 | 4.95 | 4.45
8 | 0.12 | 6.60 | 6.10 | 5.60
9 | 0.22 | 4.45 | 3.95 | 3.45

International Surface Air Lift (ISAL) M-Bag—Full Service and Direct Shipment
Rate groups | Full service per lb. | Direct shipment per lb.
1 | $1.60 | $1.60
2 | 1.70 | 1.70
3 | 2.00 | 2.00
4 | 2.80 | 2.80
5 | 2.35 | 2.35
6 | 2.35 | 2.35
7 | 2.60 | 2.60
8 | 3.25 | 3.25
9 | 3.00 | 3.00
Note: M-bags are subject to the minimum rate for 11 pounds.

International Surface Air Lift (ISAL) M-Bag—ISC Drop Shipment
Weight not over (lb.) | Rate groups: 1 | Rate groups: 2 | Rate groups: 3 | Rate groups: 4 | Rate groups: 5 | Rate groups: 6 | Rate groups: 7 | Rate groups: 8 | Rate groups: 9
5 | $15.90 | $14.30 | $11.45 | $16.25 | $12.90 | $14.40 | $12.05 | $16.20 | $18.25
6 | 16.00 | 14.85 | 12.75 | 18.40 | 14.60 | 15.85 | 14.35 | 19.00 | 20.25
7 | 16.10 | 15.40 | 14.05 | 20.55 | 16.30 | 17.30 | 16.65 | 21.80 | 22.25
8 | 16.20 | 15.95 | 15.35 | 22.70 | 18.00 | 18.75 | 18.95 | 24.60 | 24.25
9 | 16.30 | 16.50 | 16.65 | 24.85 | 19.70 | 20.20 | 21.25 | 27.40 | 26.25
10 | 16.40 | 17.05 | 17.95 | 27.00 | 21.40 | 21.65 | 23.55 | 30.20 | 28.25
11 | 16.50 | 17.60 | 19.25 | 29.15 | 23.10 | 23.10 | 25.85 | 33.00 | 30.25
Each additional pound or fraction of a pound | 1.50 | 1.60 | 1.75 | 2.65 | 2.10 | 2.10 | 2.35 | 3.00 | 2.75

M-Bags
Rate groups | Weight not over 11 lbs. | Additional per lb.
RG 1 (Canada) | $18.70 | $1.70
RG 2 (Mexico) | 24.20 | 2.20
RG 3 (Europe IC/Israel) | 31.35 | 2.85
RG 4 (Japan/Aus/NZ) | 49.50 | 4.50
RG 5 (All Other Countries—retail) | 43.45 | 3.95

Extra Services Fees
Service | Fee
International Postal Money Orders | $3.85
International Reply Coupons | $2.00
International Business Reply Card | $0.90
International Business Reply Envelope (up to 2 oz.) | $1.40
Customs Clearance and Delivery Fee | $5.35
Certificate of Mailing | $1.05
Restricted Delivery | $4.10
Registered Mail | $10.15
Return Receipt | $2.15
Pickup On-Demand Fee | $14.25

Insurance
Insurance: Priority mail international insurance not over | Insurance: Canada | Insurance: All other countries
$50 | $1.65 | $2.40
$100 | $2.05 | $3.30
$200 | $2.45 | $4.20
$300 | $4.60 | $5.10
$400 | $5.50 | $6.00
$500 | $6.40 | $6.90
$600 | $7.30 | $7.80
$675 | $8.20 | (¹)
$700 | (¹) | $8.70
² Add'l Indemnity | (¹) | $0.90
¹ Not Applicable
² Each additional $100 or fraction. See individual country listings for maximum indemnity.

Global Express Guaranteed Indemnity
Global Express Guaranteed Indemnity not over (U.S. $) | All countries
$100 | No fee.
Add'l Indemnity* | $0.75
* Each additional $100 or fraction. See individual country listings for maximum indemnity.

Express Mail International Merchandise Insurance
Amount of coverage | Fee
$ 0.01 to $100.00 | $0.00
100.01 to 200.00 | 0.75
200.01 to 500.00 | 2.10
500.01 to 1,000.00 | 3.45
1,000.01 to 1,500.00 | 4.80
1,500.01 to 2,000.00 | 6.15
2,000.01 to 2,500.00 | 7.50
2,500.01 to 3,000.00 | 8.85
3,000.01 to 3,500.00 | 10.20
3,500.01 to 4,000.00 | 11.55
4,000.01 to 4,500.00 | 12.90
4,500.01 to 5,000.00 | 14.25

3. Revise the Mailing Standards of the United States Postal Service, International Mail Manual (IMM), as follows:

* * * * *

1 International Mail Services

110 General Information

* * * * *

112 Mailer Responsibility

[Revise 112 by adding the following after the last sentence.]

* * * Full responsibility rests with the mailer to comply with all postal and nonpostal laws and regulations regarding the mailing of dangerous goods. Anyone who mails, or causes to be mailed, nonmailable or improperly packaged dangerous goods can be subject to legal penalties, including but not limited to those specified in 18 U.S.C.

115 Official Correspondence

115.1 Communicating With Headquarters

* * * * *

115.13 Transportation and Distribution

[Revise the first sentence of 115.13 as follows:]

Correspondence concerning the transportation of international civil and military mail, including the following, should be addressed to:

* * * * *

120 Preparation for Mailing

* * * * *

122 Addressing

122.1 Destination Address

[Revise 122.1d by changing the reference to 284.1 to 292.41.]

* * * * *

123 Customs Forms

123.1 General

* * * * *

[Revise the Note for 123.1 as follows:]

Note: The current edition of PS Form 2976 is January 2004; the current edition of PS Form 2976-A is January 2006; the current edition of PS Form 2976-E is September 2006. Except as provided in 123.3, mailers must present at the time of mailing a fully completed Sender's Declaration (the Post Office copy of PS Form 2976 or 2976-A), which specifies both the sender's name and address and the addressee's name and address.

* * * * *

123.5 Place of Mailing

[Revise the exception by changing the reference to “Global Express Mail” to Express Mail International.]

123.6 Required Usage

123.61 Conditions

* * * * *

[Revise Exhibit 123.61 as follows:]

Exhibit 123.61

Customs Declaration Form Usage
Mail category | Declared value | Required form | Comment
Global Express Guaranteed | All values | Mailing label (item 11FGG1) | GXG Customs Form, PS Form 6182, Commercial Invoice as specified in the individual country listings.
Express Mail International | All values | 2976 or 2976-A | Required Customs Forms and endorsements vary by country and are specified in the Individual Country Listings.
Priority Mail International | All values | 2976-A with 2976-E | All items mailed in Priority Mail International packaging boxes, containers, flats, and envelopes, except the Priority Mail flat-rate envelope, and any item bearing a Priority Mail sticker or marked with the words “Priority Mail” is considered a parcel. Do not use PS Form 2976 (green label) on Priority Mail International parcels.
Priority Mail Flat-Rate Envelope items that: Weigh less than 16 ounces and do not have potentially dutiable contents or weigh less than 16 ounces and have potentially dutiable contents with a declared value less than $400 | Under $400 | 2976* | May contain personal correspondence including letters, documents, printed matter, and light-weight merchandise items. Merchandise is permitted unless prohibited by the destination country. The maximum weight limit is 4 lbs.
Weigh 16 ounces or more, regardless of contents, regardless of value | Regardless of value | 2976-A*
First Class Mail International items that: Weigh less than 16 ounces and do not have potentially dutiable contents | N/A | None | A known mailer, as defined in 123.62, may be exempt from affixing customs forms to nondutiable mailpieces that weigh 16 ounces or more.
Weigh 16 ounces or more; do not have potentially dutiable contents; and are entered by a known mailer |  |  |
First Class Mail International items that: Weigh less than 16 ounces and have potentially dutiable contents | Under $400 $400 and over | 2976* 2976-A*
Weigh 16 ounces or more, regardless of contents, regardless of value | Regardless of value | 2976-A*
Free matter for the blind | Under $400 $400 or more | 2976* 2976-A with 2976-E*
M-bag | Under $400 $400 or more | 2976* 2976-A*
(Note: An M-bag requires a customs form when it contains potentially dutiable printed matter, and admissible merchandise items as defined in 261.22 or some combination thereof.) |
*Placement of forms: Use PS Form 2976 (green label) for Priority Mail International flat-rate envelope and First-Class Mail International items under $400 in value and affix it to the outside of the package. If the value of the contents is $400 or more, affix the upper portion of PS Form 2976 (green label) (cut on dotted line and discard the lower portion) to the outside of the package, complete a separate PS Form 2976-A, and enclose the form set inside the package.

* * * * *

[Revise the heading of the notes and delete notes 1 and 3 as follows:]

Note: Bulk business products, including International Surface Air Lift * * *

* * * * *

123.62 Known Mailers

* * * * *

[Revise the “Exception” by changing the references to 292.222 and 293.92 to 292.22 and 293.75.]

* * * * *

123.7 Completing Customs Forms

123.71 PS Form 2976, Customs Declaration CN22—Sender's Declaration (green label)

123.711 Sender's preparation of PS Form 2976

[Revise 123.711 by adding new e and re-alphabetizing current e through j as f through k.]

e. The sender must enter the actual value of an item for registered items in a consistent manner on Forms 3806 and 2976, i.e., the value entered must be identical. Items on which identical values are not declared will be refused. (See IMM 334.12)

* * * * *

123.72 PS Form 2976-A, Customs Declaration and Dispatch Note—CP 72

123.721 Sender's Preparation of PS Form 2976-A

* * * * *

o. Affix PS Form 2976-A according to the class of mail, as follows:

[Revise item o(1) as follows:]

(1) For Priority Mail International parcels, with the exception of the flat-rate envelope, first allow the Postal Service employee to complete PS Form 2976-A as described in 123.722 and then place the form set inside PS Form 2976-E (plastic envelope) and affix it to the outside of the package.

[Revise item o(2) as follows]

(2) For a Priority Mail International flat-rate envelope or First-Class Mail International item valued at $400 or more, or if you do not want to list the contents on the outside wrapper of a Priority Mail International flat-rate envelope or First-Class Mail International item, affix the upper portion of PS Form 2976 (green label) (cut on dotted line and discard the lower portion) to the address side of the package, complete PS Form 2976-A, and enclose the form set inside the package.

* * * * *

130 Mailability

131 General

131.1 Domestic Limits

131.2 International Limits

[Revise 131.2 by changing the reference to section 630 to section 6.]

* * * * *

134 Valuable Articles

134.1 List of Articles

[Revise 134.1 as follows:]

The following valuable articles may be sent only by registered Priority Mail International flat-rate envelope, registered First-Class Mail International, or by insured Priority Mail International shipments and are not mailable in Express Mail International or ordinary Priority Mail International shipments (see 221.2 and 233):

* * * * *

135 Mailable Dangerous Goods

135.1 Biological Substances

135.11 General Conditions

[Revise 135.11 as follows:]

Infectious substances are acceptable in the international mail subject to the provisions of DMM 601 and under the additional conditions specified in subsections below.

[Revise 135.12 by changing airmail letter-post to First-Class Mail International.]:

* * * * *

135.2 Authorization

* * * * *

135.22 Requests for Authorization

[Revise the first sentence of 135.22 as follows:]

Qualifying institutions wishing to mail packages containing biological substances must submit a written request on their organizational letterhead to the following address:

* * * * *

135.4 Marking

135.41 Infectious Biological Substances

[Revise the first sentence of 135.41 as follows:]

Items that contain infectious biological substances should be identified by a black and white diamond-shaped label with the division number 6.2 in the bottom, in addition to the Etiologic Agents/Biohazard Material label. * * *

* * * * *

135.42 Noninfectious Biological Substances

[Revise the first sentence of 135.42 as follows:]

Items that contain noninfectious biological substances must be identified by a violet-colored label bearing the prescribed symbol and French wording for perishable biological materials: “MATIERES BIOLOGIQUES PERISSABLES.”

* * * * *

135.5 Handling and Dispatch

135.51 Biological Substances

[Revise 135.51 as follows:]

Items that contain perishable biological substances must be given careful yet expeditious handling from receipt through dispatch.

* * * * *

135.6 Radioactive Materials

* * * * *

[Revise item a as follows:]

a. Shipments may be sent only by registered First-Class Mail International.

* * * * *

139 Perishable Matter

139.1 Animals

* * * * *

c. Parasites and predators of injurious insects, if the following conditions are met:

* * * * *

[Revise item c (4) as follows:]

(4) They are sent by First-Class Mail International.

* * * * *

139.3 Eggs

139.31 Restrictions

[Revise 139.31 as follows:]

Eggs may be sent only by Priority Mail International.* * *

* * * * *

140 International Mail Categories

141 Definitions

141.1 General

[Revise 141.1 as follows:]

There are four principal categories of international mail that are primarily differentiated from one another by speed of service. They are Global Express Guaranteed®(GXG), Express Mail International service, Priority Mail International, and First-Class Mail International service.

* * * * *

[Revise the title and text of 141.3 as follows:]

141.3 Express Mail International

The next level of service, in terms of speed and value-added features, is Express Mail International. Express Mail International is an expedited mail service that can be used to send documents and merchandise to most of the country locations that are individually listed in this publication. Express Mail International insurance coverage against loss, damage, or rifling, up to a maximum of $100, is provided at no additional charge. Additional merchandise insurance coverage up to $5,000 may be purchased at the sender's option to many countries. Document reconstruction insurance coverage is limited to a maximum of $100 per shipment. Return receipt service is available upon request, at no additional charge, for Express Mail International shipments that are sent to a limited number of countries. See 221.4. Country-specific maximum weight limits range from 22 pounds to 70 pounds. See the Individual Country Listings. Express Mail International shipments offers a date-certain, money-back guarantee to select destinations: see IMM 221.1 and the Individual Country Listings to determine the availability of such service. For all other destinations, Express Mail International shipments are not subject to a postage refund guarantee if a delivery delay occurs.

[Revise 141.4 as follows:]

141.4 Priority Mail International

a. With the exception of the flat-rate envelope, Priority Mail International, which is referred to as CP mail, is governed by the parcels provisions of the Universal Postal Convention. That classification is primarily designed to accommodate larger and heavier shipments, whose size and/or weight transcend the established limitations for First-Class Mail International. At the sender's option, extra services, such as insurance coverage and return receipt service may be added on a country specific basis.

b. Priority Mail International flat-rate envelope is an accelerated airmail service that provides customers with a reliable and economical means of sending correspondence, documents, printed matter, and light-weight merchandise items to foreign destinations. The maximum limit is 4 pounds. Registered Mail service is available for the Priority Mail International flat-rate envelope. Insurance is not available in combination with Priority Mail International flat-rate envelope service.

[Revise the title and text of 141.5 as follows:]

141.5 First-Class Mail International

First-Class Mail International is a generic term for mailpieces of differing shapes, sizes, and contents which weigh four pounds or less that are subject to the provisions of the Universal Postal Union letter-post Convention. First-Class Mail International items may contain any mailable matter that is not hazardous or prohibited by the destination country. Aerogrammes are not available for purchase. Previously purchased aerogrammes are mailable at the applicable First-Class Mail International rate. At the sender's option, extra services, such as registry and return receipt may be added on a country-specific basis.

Note: The term First-Class Mail International encompasses all of the classes of international letter-post mail (i.e., letter and letter packages, postcards and postal cards, printed matter, and small packets) that were formerly categorized as LC (letters and cards) and AO (other articles) respectively.

[Delete 141.6.]

* * * * *

142 Envelope and Card Specifications

* * * * *

142.6 Bordered Envelopes and Cards

[Revise 142.6 by changing airmail letter-post to First-Class Mail International.]

143 Official Mail

* * * * *

143.4 General Secretariat of the Organization of American States (OAS)

[Revise items a and b as follows:]

a. Unregistered First-Class Mail International items bearing the return address of the OAS General Secretariat and weighing not more than 4 pounds are accepted without postage when addressed to the OAS member countries listed in 143.4c.

b. Items other than First-Class Mail International with extra services may not be provided for OAS General Secretariat official mail without the prepayment of postage or the fee for the extra service requested.

* * * * *

143.5 Pan American Sanitary Bureau Mail

[Revise items a and b as follows:]

a. Unregistered First-Class Mail International items bearing the return address of the bureau and weighing not more than 4 pounds, are accepted without postage affixed when addressed to an OAS member country listed in 143.4c or to Cuba.

b. Items with the bureau return address that are sent other than First-Class Mail International or that requests extra services must prepay all postage and fees.

150 Postage

* * * * *

152 Payment Methods

* * * * *

152.2 Stamps

* * * * *

[Revise item a by changing special services to extra services. Delete item c, and re-letter current item d as new item c and revise as follows:]

c. Nondenominated postage stamps (except for those that bear unique domestic markings, such as First-Class Presort, Nonprofit Org.) may be affixed to postal items that are sent to foreign countries. The value of such stamps is linked to either a current or a former domestic rate (e.g., the “Lady Liberty and U.S. Flag” stamp has a postage value of 39 cents). The postage value of the Forever Stamp, as well as the nondenominated Breast Cancer Research semipostal stamp, is always the domestic First-Class Mail single-piece one-ounce letter rate that is in effect on the day of use (mailing). Since international postage rates are always higher than the comparable domestic postage rates, mailers who affix a single nondenominated postage stamp to their outbound mailpieces must add additional postage to comply with the international rate schedule.

* * * * *

152.3 Permit Imprint

152.31 Conditions of Use

[Revise 152.31 as follows:]

Postage may be paid by permit imprint, subject to the general conditions stated in DMM 124, 604, and 705. Postage charges are computed on PS Form 3700. This postage payment method may be used for postage and extra service fees for First-Class Mail International and Priority Mail International.

* * * * *

[Revise Exhibit 152.34 as follows:]

Exhibit 152.34

Indicia Formats

BILLING CODE 7710-12-P

BILLING CODE 7710-12-C

[Delete 152.4.]

2 Conditions for Mailing

210 Global Express Guaranteed

211 Description

* * * * *

[Revise the title of 211.2 as follows:]

211.2 Eligibility

* * * * *

[Insert new 211.3 as follows:]

211.3 Global Express Guaranteed Service

Global Express Guaranteed (GXG) service may be used for shipments that contain documents and general correspondence for which no duty is assessed by the customs authority of the destinating country, or for shipments that contain non-documents, or other merchandise for which duty may be assessed by the customs authority of the destinating country. Document packages are sealed against inspection by the Postal Service or other U.S. agencies and authorities. Shipments that contain non-documents or other merchandise for which duty may be assessed by the customs authority of the destinating country are not sealed against inspection under 39 U.S.C. 3623(d). These shipments are also subject to inspection by the Postal Service and its designated agents for purposes of aviation (air) security, and to determine that the contents are eligible for mailing and that the contents are adequately declared on the Global Express Guaranteed Air Waybill/Shipping Invoice to permit expedited customs clearance. All shipments (documents and non-documents) may also be subject to inspection in the destinating country for purposes of compliance with the customs requirements of the destinating country. See the listing of destinating countries in 213 for specific availability.

[Delete current 212.2.]

[Insert current 216 title as new 212 title, and revise as follows:]

212 Postage Rates

[Insert current 216.1 (with new rates and rate groups) as new 212.1, and change title to “Global Express Guaranteed Service Rates/Groups”.]

[Delete current 216.2 in its entirety.]

[Insert current 216.3 in its entirety as new 212.2.]

* * * * *

212.2 Discounted Rates

* * * * *

212.23 Online Discounts

212.231 General

[Revise the last line of new 212.231 as follows:]

* * * The discounted postage rates applicable to Global Express Guaranteed are set forth in 212.26 and are separate and distinct from the postage rates set forth in 212.1.

212.232 Standard Web Discount

[Revise text in 212.232 as follows]

Discounted rates apply to Global Express Guaranteed mailings that do not qualify for the volume discount schedule and the customer prepares and pays for Global Express Guaranteed shipments online at usps.com or by using an authorized PC Postage vendor. Global Express Guaranteed published rates will be reduced by 10 percent for all payments at USPS.com or made through an authorized PC Postage vendor. The discount applies only to the postage portion of Global Express Guaranteed rates. It does not apply to the pickup service charge or additional insurance fees. The discount is automatically applied to each shipment.

* * * * *

[Revise new 212.252 (current 216.352 item a by changing “$13.25” to “$14.25.”] [Revise title of new 212.261(current 216.361) to “Global Express Guaranteed with Standard Web Discount” (Discounts apply only to customers who pay for postage online.) (New table includes new prices and rate groups.]

[Delete 216.362 in its entirety.]

[Delete 216.363 in its entirety.]

[Delete 216.364 in its entirety.]

[Insert current 216.4 in its entirety as new 212.3.]

* * * * *

213 Service Areas

* * * * *

213.2 Destinating Countries and Rate Groups

* * * * *

[In the table, Delete the “Non-Document Service Rate Group” column and revise the title of the “Document Service Rate Group” column to be “GXG Rate Group”.]

* * * * *

[Revise the introductory text before the last group of countries in 213.2 as follows:]

Only documents (211.3) may be sent to the following countries:

* * * * *

213.3 Pickup Service

[Revise the 213.3 as follows:]

a. On-call and scheduled pickup services are available for an added charge of $14.25 for each pickup stop, regardless of the number of pieces picked up. Only one pickup fee will be charged if domestic Express Mail, Express Mail International, domestic Priority Mail, Priority Mail International, and/or domestic Parcel Post is picked up at the same time.

b. No pickup fee will be charged when Global Express Guaranteed is picked up during a delivery stop or during a scheduled stop made to collect other mail not subject to a pickup fee. Pickup service is provided in accordance with the information in DMM 507.5; for more information, also visit the online site at usps.com/pickup.

214 Service Guarantee

* * * * *

[Revise the title and text of 214.2 as follows:]

214.2 Transit Days for Shipments Containing Non-Documents

Total transit days for Global Express Guaranteed service for non-document items, may be affected by general customs delays, specific customs commodity delays, holidays observed in the destinating country, and other factors beyond the Postal Service's control. See the Terms and Conditions on the Global Express Guaranteed Air Waybill/Shipping Invoice or in Publication 141 for details.

215 Inquiries, Postage Refunds, and Indemnity Claims

* * * * *

215.3 Indemnity Claims

[Delete the titles for 215.31 and 215.32 and revise the text for 215.3 as follows:]

If a shipment is lost or damaged, the sender may file a claim for document reconstruction costs (for document items), or for the declared value of the shipment costs (for non-document items). All claims must be initiated within 30 days of the shipment date by contacting a customer service representative at 800-222-1811. The representative will provide more details on how to file a claim. The original receipt of the Global Express Guaranteed Air Waybill/Shipping Invoice must be included when filing a claim. Consult Publication 141 for limitations and restrictions on indemnity payments for Global Express Guaranteed items. The Global Express Guaranteed customer service office will adjudicate refunds for Global Express Guaranteed. The Global Express Guaranteed customer service office can be contacted at 800-222-1811. Final approval and payment will be made by the Postal Service.

215.4 Extent of Postal Service Liability for Lost or Damaged Contents

[Delete the titles for 215.41 and 215.42 and revise the text for 215.4 as follows:]

Liability for a lost or damaged Global Express Guaranteed shipment is limited to the lowest of the following:

a. $100 or the amount of additional optional insurance purchased.

b. The actual amount of the loss or damage.

c. The actual value of the contents.

“Actual value” means the lowest cost of replacing, reconstructing or reconstituting the allowable contents of the shipment (determined at the time and place of acceptance). See individual country listings.

215.5 Insurance

[Revise the title and text of 215.51 as follows:]

215.51 Insurance for Global Express Guaranteed

Document reconstruction insurance (the reasonable costs incurred in reconstructing duplicates of nonnegotiable documents mailed), and non-document insurance for loss or damage up to $100 per shipment, is included at no additional charge (See individual country listings for availability). Additional insurance may be purchased for non-document and document shipments, as outlined in section 215.52, not to exceed the total cost of reconstruction, $2,499, or a lesser amount as limited by country, content, or value. Coverage, terms, and limitations are subject to change.

[Delete title and text of 215.52 and renumber 215.53 as 215.52.]

* * * * *

[Delete current 216. Renumber current 217 and 218 as 216 and 217.]

216 Sizes and Weights

[Revise 216.1 as follows:]

The weight, dimensional weight, and size limits set forth in this section are for Global Express Guaranteed service shipments containing documents and non-documents unless otherwise noted in the Individual Country Listings.

* * * * *

216.3 Dimensional Weight

[Revise 216.3 as follows:]

Postage for Global Express Guaranteed is charged based on the actual weight or the dimensional weight (as calculated in 216.31 or 216.32), whichever is greater. The equation for determining dimensional weight is as follows:

216.31 Determining Dimensional Weight for a Rectangular Shaped Parcel

Follow these steps to determine the dimensional weight for a rectangular shaped parcel:

a. Determine the length, width, and height in inches. Round off each measurement to the nearest whole inch.

b. Multiply the length by the width by the height.

c. Divide the result by 166 and round up to the next whole number to determine the dimensional weight in pounds.

216.32 Determining Dimensional Weight for a Nonrectangular Shaped Parcel

Follow these steps to determine the dimensional weight for a nonrectangular-shaped parcel:

a. Determine the length, width, and height in inches. Measure the length, width, and height at their extreme dimensions. Round off each measurement to the nearest whole inch.

b. Multiply the length by the width by the height.

c. Multiply the result by an adjustment factor of 0.785.

d. Divide the result by 166 and round up to the next whole number to determine the dimensional weight in pounds.

* * * * *

218 Preparation Requirements

218.1 Preparation by the Sender

[Revise 218.1c as follows. Delete 218.1d.]

c. Complete the Shipment Details to show the contents in detail. For documents, include the estimated cost of reconstruction. For non-documents, include a valuation and country of manufacture. Non-document shipments can not have a value that exceeds $2499. All Global Express Guaranteed shipments must be signed and dated on the mailer agreement,

* * * * *

[Revise the title and text of 220 as follows:]

220 Express Mail International

[Throughout 220, change “Global Express Mail,” “Global Express Mail (EMS),” and “EMS” to “Express Mail International.”]

221 Description

* * * * *

[Revise the title and first line of 221.2 as follows:]

221.2 Eligibility

Any item not prohibited in international mail is allowed in Express Mail International except dangerous goods. * * *

* * * * *

221.31 Express Mail International Merchandise Insurance

Express Mail International merchandise insurance coverage against loss, damage, or rifling is provided up to $100 at no additional charge. Additional insurance coverage above $100 may be purchased at the sender's option. The fee for optional Express Mail International merchandise insurance coverage is $0.75 up to $200.00; $2.10 for $200.01 to $500.00; and plus $1.35 for each $500 or fraction thereof over $500.00. See individual country listings for merchandise insurance limits.

* * * * *

222 Postage

222.1 Rates

222.11 Country Rates

* * * * *

[Add new Exhibit 222.11 as follows:]

Exhibit 222.11

Flat-Rate Envelope Postage Rates
Canada & Mexico | $22.00
All other countries | $25.00

222.13 Online Rates—General

[Revise 222.13 as follows:]

Discounted rates apply to Express Mail International customers who prepare and pay for Express Mail International shipments online at usps.com or by using an authorized PC Postage vendor.

* * * * *

222.132 Online Discounts

[Revise 222.132 as follows:]

Express Mail International published rates will be reduced by 8 percent for all payments at USPS.com or made through an authorized PC Postage vendor. The discount applies only to the postage portion of Express Mail International rates. It does not apply to the pickup service charge, additional merchandise insurance fees, or shipments made under an International Customized Mail agreement.

222.2 Payment of Postage

222.21 Methods of Payment

[Revise 222.21 as follows:]

Express Mail International may be paid by postage stamps, postage validation imprinter (PVI) labels, postage meter stamps, information-based indicia (IBI), PC Postage™, or through the use of an Express Mail corporate account.

* * * * *

222.24 Pickup Service

[Revise 222.24 by changing $13.25 to $14.25.]

[Revise the title of 223 as follows:]

223 Physical Characteristics

* * * * *

[Revise the title of 223.2 as follows:]

223.2 Dimensions

* * * * *

[Revise the title of 224 as follows:]

224 Mail Preparations

* * * * *

[Revise the title and text of 230 as follows:]

230 Priority Mail International

231 Description

231.1 General

Priority Mail International is a priority airmail service that provides customers with a reliable and economical means of sending correspondence, documents, printed matter, light-weight merchandise items, and parcels to foreign destinations. Written correspondence having the nature of current and personal correspondence is not permitted in Priority Mail International parcels, but may be sent in the Priority Mail International flat-rate envelope.

231.2 Priority Mail International Flat Rate Envelope

All items which may be sent as First-Class Mail International (see 241) may be sent in the Priority Mail International flat-rate envelope provided that the contents are mailable and fit securely in the envelope and the contents are entirely confined within the envelope with the adhesive provided as the means of closure. The envelope flaps must be able to close within the normal folds. Tape may be applied to the flap and seams for closure or to reinforce the envelope, provided the design of the envelope is not enlarged by opening the sides of the envelope and taping or reconstructing the envelope in any way. Registered mail service is available. Insurance is not available.

232 Priority Mail International Flat-Rate Envelope Postage

232.1 Rates

The Priority Mail International flat-rate envelope is charged at a flat rate. The price does not depend on the weight of the item. Postage is required for each piece. Priority Mail flat-rate envelopes with prepaid postage may be used for international mail. Appropriate additional postage must be added prior to mailing. (See Exhibit 232.1.)

Exhibit 232.1

Flat-Rate Envelope Postage Rates
Canada & Mexico | $9.00
All other countries | $11.00

232.2 Weight Limit

The weight limit for the flat-rate envelope is 4 pounds.

232.3 Customs Forms Required

All Priority Mail International flat-rate envelopes must bear PS Form 2976 or 2976-A depending on weight and value.

* * * * *

233 Priority Mail International Parcels

233.1 Indemnity

Ordinary Priority Mail International—i.e. uninsured—includes indemnity coverage against loss, damage, or rifling up to the amounts shown in Exhibit 233.3. Indemnity is limited to the lesser of the actual value of the contents or the maximum indemnity based on the weight of the article. If the parcel has been delivered to the addressee, payment for damage and missing contents is made to the addressee unless the addressee waives payment, in writing, in favor of the sender.

Note: International insured mail service provides insurance coverage higher than the indemnity limits for ordinary Priority Mail International parcels to many countries. See IMM 320 and individual country listings for availability and limitations of coverage. When international insurance is purchased, it replaces the ordinary indemnity coverage.

Note: Priority Mail International parcels may be insured, but not the Priority Mail Flat-Rate envelope. (see 322).

233.2 Exclusions

Ordinary indemnity coverage is not paid for:

a. Parcels containing coins; banknotes; currency notes, including paper money; securities of any kind payable to the bearer; traveler's checks; platinum, gold, and silver; precious stones; jewelry; watches; and other valuable articles.

b. Consequential losses, delay, concealed damage, spoilage of perishable items, articles improperly packaged, articles too fragile to withstand normal handling in the mail, or prohibited articles.

c. Priority Mail International parcels mailed to the Republic of the Marshall Islands or the Federated States of Micronesia.

233.3 Ordinary Priority Mail International Weight and Indemnity Limits

Exhibit 233.3 lists the weight and indemnity limits for ordinary Priority Mail International parcels.

Exhibit 233.3

Ordinary Priority Mail International Weight and Indemnity Limits
Weight not over (lbs.) | Indemnity | Weight not over (lbs.) | Indemnity
1 | $61.28 | 36 | $165.58
2 | $64.26 | 37 | $168.56
3 | $67.24 | 38 | $171.54
4 | $70.22 | 39 | $174.52
5 | $73.20 | 40 | $177.50
6 | $76.18 | 41 | $180.48
7 | $79.16 | 42 | $183.46
8 | $82.14 | 43 | $186.44
9 | $85.12 | 44 | $189.42
10 | $88.10 | 45 | $192.40
11 | $91.08 | 46 | $195.38
12 | $94.06 | 47 | $198.36
13 | $97.04 | 48 | $201.34
14 | $100.02 | 49 | $204.32
15 | $103.00 | 50 | $207.30
16 | $105.98 | 51 | $210.28
17 | $108.96 | 52 | $213.26
18 | $111.94 | 53 | $216.24
19 | $114.92 | 54 | $219.22
20 | $117.90 | 55 | $222.20
21 | $120.88 | 56 | $225.18
22 | $123.86 | 57 | $228.16
23 | $126.84 | 58 | $231.14
24 | $129.82 | 59 | $234.12
25 | $132.80 | 60 | $237.10
26 | $135.78 | 61 | $240.08
27 | $138.76 | 62 | $243.06
28 | $141.74 | 63 | $246.04
29 | $144.72 | 64 | $249.02
30 | $147.70 | 65 | $252.00
31 | $150.68 | 66 | $254.98
32 | $153.66 | 67 | $257.96
33 | $156.64 | 68 | $260.94
34 | $159.62 | 69 | $263.92
35 | $162.60 | 70 | $266.90

234 Priority Mail International Postage

234.1 Priority Mail International—Flat-Rate Box

Exhibit 234.1

Canada and Mexico | $23.00
All other countries | $37.00

Note: Indemnity for items mailed in flat-rate boxes are based on the weight and indemnity limits shown in Exhibit 233.3. Maximum weight limit for the Priority Mail International flat rate box is 20 pounds or the maximum weight allowed by the country of destination whichever is less. See individual country listings.

234.2 Priority Mail International Parcels

Prices for parcels not using a flat-rate box vary by weight and country rate group. See individual country listings.

234.3 Mailing Locations

Parcels may be presented for mailing at any Post Office window.

234.4 Pickup Service

Scheduled pickup service is available for an added charge of $14.25 for each pickup stop regardless of the number of pieces picked up. Only one pickup fee will be charged if domestic Express Mail, Express Mail International, domestic Priority Mail, Priority Mail International, Global Express Guaranteed, and/or domestic Parcel Post are also picked up at the same time. No pickup fee will be charged when Priority Mail International is picked up during a delivery stop or during a scheduled stop made to collect other mail not subject to a pickup fee. Pickup service is provided in accordance with the information in DMM 507.5; for more information, also visit the online site at usps.com/pickup.

234.5 Priority Mail International Online Rates

A discount of 5 percent will be applied to Priority Mail International published postage rates for transactions conducted on Click-N-Ship or through an authorized PC postage vendor. The discount applies only to the postage portion of Priority Mail International rates. It does not apply to pickup service charges, insurance fees, or shipments made under an International Customized agreement.

235 Weight and Size Limits

235.1 Weight Limits

a. Flat-rate envelope: 4 lbs.

b. Flat-rate box: 20 lbs.

c. Parcels: See Individual Country Listings.

235.2 Size Limits

235.21 Rectangular Parcels

a. Minimum length and width: 5½ × 3½ inches.

b. Maximum length: 42 inches.

c. Maximum length and girth combined: 79 inches.

235.22 Circular Parcels

Maximum girth (measured along diameter): 64 inches.

235.23 Exceptional Size Limits

The maximum size limit for rectangular-shaped parcels of 42 inches in maximum length and 79 inches in maximum length and girth combined applies to all countries except as follows:

a. Maximum length and girth combined: 108 inches.

Canada

Hong Kong

b. Maximum length: 60 inches

Maximum length and girth combined: 108 inches.

Azerbaijan

Great Britain and Northern Ireland

Japan

Macao

Republic of the Marshall Islands

Federated States of Micronesia

New Zealand

c. Priority Mail International parcels:

Maximum length: 60 inches.

Maximum length and girth combined: 108 inches.

Andorra

Austria

Belgium

Denmark

Finland

France

Germany

Gibraltar

Greece

Ireland

Italy

Liechtenstein

Luxembourg

Malta

Netherlands

Norway

Poland

Portugal

San Marino

Slovak Republic (Slovakia)

Spain

Sweden

Switzerland

Vatican City

236 Preparation Requirements

236.1 Addressing

Name and address of sender and addressee must also be recorded on a separate slip enclosed in the parcel. See 122.

236.2 Marking

Parcels that are paid for at the Priority Mail International rate of postage must be marked “AIRMAIL” or “PAR AVION” or bear one of the two prescribed airmail labels (i.e., either PS Label 19-A or PS Label 19-B). The airmail marking or label should be placed below and to the left of the delivery address.

236.3 Sealing

236.31 Requirements

All international parcels must be sealed.

236.32 Sealing Materials

Senders must seal their own parcels. Wax, gummed-paper tape, nails, screws, wire, metal bands, or other materials may be used to seal parcels. The seal must be sufficient to allow detection of tampering.

236.4 Packaging

236.41 Packaging Requirements

Every parcel must be securely and substantially packed. In packing, the sender must consider the nature of the contents, the climate, the length of the journey, and the numerous handlings involved in the conveyance of international mail.

236.42 Types of Containers

Ordinary paperboard containers are not acceptable. Parcels must be packed in one of the following:

a. Canvas or similar material.

b. Double-faced corrugated or solid (minimum 275-pound test) fiber boxes or cases.

c. Strong wooden boxes made of lumber at least ½-inch thick or plywood of at least three plies.

236.43 Use of Wrapping Paper

Heavy wrapping paper or waterproof paper is permitted only as the outside covering of a carton.

236.44 Boxes With Screwed or Nailed Lids

If otherwise acceptable, boxes with screwed- or nailed-on lids and bags closed by sewing may be used. Heavy objects, such as cans of food, must be surrounded with other contents or packing material in order to prevent their shifting within the parcel. For illustrations or recommended packing procedures, see DMM 601.

236.45 Customs Forms Required

All Priority Mail International parcels must bear PS Form 2976-A.

236.46 Nonpostal Documentation

Forms required by nonpostal export regulations are described in chapter 5.

* * * * *

[Revise the title of 240 as follows:]

240 First-Class Mail International

[Throughout 240 change the term “letter-post” to First-Class Mail International and delete references to “airmail and economy.”]

241 Description

[Revise the title and text of 241.1 as follows:]

241.1 General

The First-Class Mail International classification encompasses all the classes of international mail that were formerly categorized as airmail letter-post and economy letter-post, post and postal cards, printed matter and small packets that were formerly categorized as LC (letters and cards), and AO (other articles).

* * * * *

242 Postage

242.1 Rates

[Revise the introductory text of 242.1 and the note as follows:]

The country-specific rate group designations that apply to First-Class Mail International and airmail M-bags (see 260) are as follows: * * *

Note: See the Individual Country Listings for the First-Class Mail International postage rates that are applicable to specific destination countries and territorial possessions.

242.2 Payment of Postage

[Revise the text of 242.2 as follows:]

A mailer of a First-Class Mail International item may pay postage with postage stamps, postage meter, postage validation imprinter (PVI) label, PC postage, or permit imprint.

[Revise the title of 243 as follows:]

243 Physical Characteristics

* * * * *

[Revise the title of 243.2 as follows:]

243.2 Dimensions

* * * * *

243.24 Nonmachinable Surcharge

[Revise the introductory text of 243.24 as follows:]

A $0.17 per-piece surcharge is applied to a First-Class Mail International item that weighs 1 ounce or less, if it has one or more of the following characteristics:

* * * * *

[Revise the title of 244 as follows:]

244 Mail Preparation

* * * * *

244.2 Marking

[Revise items a and b by replacing “Letter-post” with “First-Class Mail International;” revise item d by replacing “Economy (surface)” with “First-Class Mail International”; delete item c and re-letter items d and e as items c and d.]

* * * * *

244.5 Customs Forms Required

244.51 Dutiable Merchandise

* * * * *

[Revise the title of 250 as follows:]

250 Postcards and Postal Cards

251 Description

[Delete the title of 251.1. Renumber current 251.11 and 251.12 as new 251.1 and 251.11.]

251.1 General

[Revise the text of new 251.1 as follows:]

Postcards and postal cards consist of single cards sent without a wrapper or envelope. Folded (double) cards must be mailed in envelopes at the First-Class Mail International rate of postage.

[Renumber 251.13 as 251.12 and 251.14 as 251.13.]

* * * * *

[Delete 251.2 and 251.3 in their entireties.]

[Revise the title of 252 as follows:]

252 Postage Rates and Fees

[Revise 252 by deleting reference to Aerogrammes as follows:]

Postcards and Postal Cards

Canada and Mexico $0.69

Marshall Islands and Micronesia $0.52

All other countries $0.90

* * * * *

[Revise the title and text of 253.2 as follows (deleting the titles and texts of 253.21 and 253.22):]

253.2 Dimensions

Each card claimed at a card rate must be:

a. Rectangular.

b. Not less than 3½ inches high, 5½ inches long, and 0.007 inch thick.

c. Not more than 4¼ inches high, 6 inches long and 0.016 inch thick.

Note: See 243.23 for larger cards.

[Revise the title of 254 as follows:]

254 Elements on the Face of a Mailpiece

* * * * *

[Revise the title of 254.2 as follows:]

254.2 Marking

* * * * *

[Delete the current 254.3 in its entirety. Renumber current 254.22 new 254.23 as 254.3 and 254.4.]

[Renumber current 251.15 and 251.16 as new 254.5 and 254.6.]

* * * * *

260 Direct Sacks of Printed Matter to One Addressee (M-Bags)

[Revise the title of 261 as follows:]

261 Description

[Revise the title of 261.1 as follows:]

261.1 General

[Revise 261.1 by changing the five bullets to items a through e and by revising item e as follows:]

* * * * *

e. Extra services: Certificate of mailing is available. Registry and insurance are not available.

[Revise the title of 261.2 as follows:]

261.2 Eligibility

* * * * *

261.22 Merchandise

* * * * *

[Revise the title of 262 as follows:]

262 Postage Rates and Fees

[Delete the title of 262.1. Renumber current 262.11 as new 262.1.and revise as follows:”]

262.1 M-bags

M-bags that are paid for at the First-Class Mail International rate of postage may contain any type of allowable printed matter or merchandise items (see 261). See the Individual Country Listings for the minimum bag charge for weights up to 11 pounds and the per-pound rate for each additional pound or fraction of a pound over 11 pounds.

[Delete 262.12.]

[Delete the title of 262.2. Renumber current 262.13 as new 262.2.]

[Renumber current 262.21 and 262.22 as new 262.3 and 262.4.]

[Revise the title of new 262.4 as follows:]

262.4 Stamps, Postage Evidencing Systems, PVI Labels, or Permit Imprint

* * * * *

[Revise item a as follows:]

a. By affixing postage stamps, meter stamps, PC postage, or a postage validation imprinter (PVI) label to PS Tag 158, M-bag Addressee Tag.

[Revise item b by removing the note.]

* * * * *

263.1 Weight Limits

[Revise the text in 263.1 as follows:]

There is no minimum weight requirement for the entry of M-bags or International Surface Air Lift (ISAL) M-bags. The maximum weight limit for M-bags is 66 pounds, which includes the tare weight of the sack.

Note: Customers who tender M-bags that weigh less than 11 pounds are required to pay the minimum “11-pound bag charge” that is applicable to the country of destination where the sack and its contents are to be delivered.

* * * * *

264.3 Customs Forms Required

[Revise 264.3 to read as follows]

M-bags that contain potentially dutiable printed matter or any category of printed matter that is combined with allowable merchandise items (see 261.22) must be accompanied by a fully completed PS Form 2976 or 2976-S, depending on value, which is to be fixed to PS Tag 158, M-bad Addressee Tag.

[Add new 265 as follows:]

265 Extra Services

Certificate of mailing is available. Return receipts, restricted delivery, registry service and insurance are not available with M-bags.

[Revise the title of 270 as follows:]

270 Free Matter for the Blind or Other Physically Handicapped Persons

271 Description

[Add new 271.1 as follows:]

271.1 General

Subject to the standards below and DMM 703, matter may be entered free of postage if mailed by or for the use of blind or other persons who cannot read or use conventionally printed materials due to a physical handicap.

[Add new 271.2 as follows:]

271.2 Eligibility

Eligible participants must be residents of the United States, including the several states, territories, insular possessions, and the District of Columbia, or American citizens domiciled abroad.

[Add new 271.3 as follows:]

271.3 Matter Sent To or by Blind or Other Physically Handicapped Persons

Acceptable matter and the conditions for mailing such matter that may be sent free under this standard are limited to the items described in 271 and DMM 703.

[Revise the title and text in 272 as follows:]

272 Postage Rates

The postage rate for an eligible item mailed as matter for the blind is:

a. Free when sent as First-Class Mail International.

b. The applicable rate based on the weight of the mailpiece if any level of service other than First-Class Mail International is desired.

* * * * *

274.2 Marking

[Revise 274.2 as follows (deleting the titles and text for 274.21 and 274.22:]

First-Class Mail International accepted as free matter must be marked “Free Matter for the Blind or Handicapped” in the upper right-hand corner of the address side of the mailpiece.

[Add new 275 as follows:]

275 Extra Services

Registered Mail and Insurance are the only extra services that can be added to mail sent as free matter for the blind or handicapped.

* * * * *

[Reserve 280.]

* * * * *

290 Commercial Services

291 (Reserved)

292 International Priority Airmail Service

[Change “letter-post” to “First-Class Mail International” throughout 292. Change PS Form 3652 to PS Form 3700 throughout 292.]

292.1 Description

* * * * *

292.12 Qualifying Mail

[Revise the first sentence as follows:]

Any item of the First-Class Mail International classification, as defined in 141.5, qualifies, including postcards.* * *

* * * * *

292.14 Dutiable Items

[Revise 292.14 by changing “Parcel post (CP)” to “Priority Mail International.”]

* * * * *

[Revise the heading of 292.16 as follows:]

292.16 Extra Services Not Available

* * * * *

[Revise Exhibit 292.211 and add new Exhibit 292.211a and 292.211b as follows:]

Exhibit 292.211

International Priority Airmail (IPA) Rates

International Priority Airmail
Rate groups | Per piece | Full service per lb. | ISC drop shipment per lb.
1 | $0.33 | $4.55 | $3.55
2 | 0.15 | 6.10 | 5.10
3 | 0.32 | 7.50 | 6.50
4 | 0.32 | 7.70 | 6.70
5 | 0.15 | 6.50 | 5.50
6 | 0.15 | 5.80 | 4.80
7 | 0.15 | 7.50 | 6.50
8 | 0.12 | 8.00 | 7.00
9 | 0.27 | 8.25 | 7.25
Worldwide | 0.25 | 8.50 | 7.50

Exhibit 292.211a

International Priority Airmail (IPA) M-Bag—Full Service
Rate groups | Full service per lb.
1 | $2.10
2 | 2.70
3 | 3.60
4 | 5.15
5 | 4.40
6 | 4.20
7 | 4.95
8 | 4.85
9 | 5.60
Note: M-bags are subject to the minimum rate for 11 pounds.

Exhibit 292.211b

International Priority Air Mail (IPA) M-Bag-ISC Drop Shipment
Weight not over (lb.) | Rate groups: 1 | Rate groups: 2 | Rate groups: 3 | Rate groups: 4 | Rate groups: 5 | Rate groups: 6 | Rate groups: 7 | Rate groups: 8 | Rate groups: 9
5 | $19.30 | $25.00 | $30.85 | $44.50 | $38.75 | $38.65 | $44.80 | $42.50 | $47.75
6 | 19.75 | 25.60 | 31.85 | 46.25 | 39.90 | 39.45 | 45.95 | 43.85 | 49.60
7 | 20.20 | 26.20 | 32.85 | 48.00 | 41.05 | 40.25 | 47.10 | 45.20 | 51.45
8 | 20.65 | 26.80 | 33.85 | 49.75 | 42.20 | 41.05 | 48.25 | 46.55 | 53.30
9 | 21.10 | 27.40 | 34.85 | 51.50 | 43.35 | 41.85 | 49.40 | 47.90 | 55.15
10 | 21.55 | 28.00 | 35.85 | 53.25 | 44.50 | 42.65 | 50.55 | 49.25 | 57.00
11 | 22.00 | 28.60 | 36.85 | 55.00 | 45.65 | 43.45 | 51.70 | 50.60 | 58.85
Each additional pound or fraction of a pound | 2.00 | 2.60 | 3.35 | 5.00 | 4.15 | 3.95 | 4.70 | 4.60 | 5.35

* * * * *

292.223 Permit Imprint

[Revise the text of 292.223 by changing the reference to Exhibit 152.3 to 152.34.]

* * * * *

[Revise Exhibit 292.442 by changing the Australia rate group assignment to rate group 9.]

293 International Surface Air Lift (ISAL) Service

[Change “letter-post” to “First-Class Mail International” throughout 293. Change PS Form 3650 and 3655 to PS Form 3700.]

293.1 Definition

[Revise the second sentence to read as follows:]

* * *The cost is lower than First-Class Mail International.* * *

* * * * *

[Revise the heading of 293.4 as follows:]

293.4 Extra Services

* * * * *

[Revise 293.71 as follows:]

293.71 Rates

International Surface Air Lift (ISAL)
Rate groups | Per piece | Full service per lb. | Direct shipment per lb. | ISC drop shipment per lb.
1 | $0.32 | $3.20 | $2.70 | $2.20
2 | 0.15 | 5.15 | 4.65 | 4.15
3 | 0.30 | 4.00 | 3.50 | 3.00
4 | 0.32 | 4.35 | 3.85 | 3.35
5 | 0.15 | 5.45 | 4.95 | 4.45
6 | 0.15 | 5.55 | 5.05 | 4.55
7 | 0.15 | 5.45 | 4.95 | 4.45
8 | 0.12 | 6.60 | 6.10 | 5.60
9 | 0.22 | 4.45 | 3.95 | 3.45

International Surface Air Lift (ISAL) M-Bag-Full Service and Direct Shipment
Rate groups | Full service per lb. | Direct shipment per lb.
1 | $1.60 | $1.60
2 | 1.70 | 1.70
3 | 2.00 | 2.00
4 | 2.80 | 2.80
5 | 2.35 | 2.35
6 | 2.35 | 2.35
7 | 2.60 | 2.60
8 | 3.25 | 3.25
9 | 3.00 | 3.00
Note: M-bags are subject to the minimum rate for 11 pounds.

International Surface Air Lift M-Bag—ISC Drop Shipment
Weight not over (lb.) | Rate groups: 1 | Rate groups: 2 | Rate groups: 3 | Rate groups: 4 | Rate groups: 5 | Rate groups: 6 | Rate groups: 7 | Rate groups: 8 | Rate groups: 9
5 | $15.90 | $14.30 | $11.45 | $16.25 | $12.90 | $14.40 | $12.05 | $16.20 | $18.25
6 | 16.00 | 14.85 | 12.75 | 18.40 | 14.60 | 15.85 | 14.35 | 19.00 | 20.25
7 | 16.10 | 15.40 | 14.05 | 20.55 | 16.30 | 17.30 | 16.65 | 21.80 | 22.25
8 | 16.20 | 15.95 | 15.35 | 22.70 | 18.00 | 18.75 | 18.95 | 24.60 | 24.25
9 | 16.30 | 16.50 | 16.65 | 24.85 | 19.70 | 20.20 | 21.25 | 27.40 | 26.25
10 | 16.40 | 17.05 | 17.95 | 27.00 | 21.40 | 21.65 | 23.55 | 30.20 | 28.25
11 | 16.50 | 17.60 | 19.25 | 29.15 | 23.10 | 23.10 | 25.85 | 33.00 | 30.25
Each additional pound or fraction of a pound | 1.50 | 1.60 | 1.75 | 2.65 | 2.10 | 2.10 | 2.35 | 3.00 | 2.75

[Revise Exhibit 293.71 by changing the rate group assignment for Australia to rate group 9.]

* * * * *

293.752 Piece Rate

[Revise the text of 293.752 by changing the reference to Exhibit 152.3 to 152.34.]

* * * * *

293.9 Preparation Requirements

* * * * *

[Delete 293.92. Renumber 293.93, 293.94, and 293.95 as 293.92, 293.93, and 293.94.]

* * * * *

[Delete the text in 294 to eliminate Publishers' Periodicals service. Publishers' Periodicals service is discontinued:]

294 (Reserved)

* * * * *

[Delete the text in 295 to eliminate Books and Sheet Music service. Books and Sheet Music service is discontinued:]

295 (Reserved)

* * * * *

297 International Customized Mail

[Change “letter-post” to “First-Class Mail International” and change “Global Priority Mail” to “Priority Mail International” throughout 297.]

* * * * *

[Revise the heading of 3 as follows:]

3 Extra Services

310 Certificate of Mailing

* * * * *

312 Availability

[Revise 312 by deleting the words “letter-post,” “parcel post” and “recorded delivery” as follows:]

Customers can purchase a certificate of mailing when they send unregistered First-Class Mail International, post/postal cards, free matter for the blind and uninsured Priority Mail International parcels. To obtain an additional certificate after mailing, the mailer must present the original certificate and an additional certificate endorsed “Duplicate” or a copy showing the original dates of mailing. The additional certificate must be postmarked to show the current date. A certificate of mailing cannot be obtained in combination with registered mail, insured parcels, or bulk mailings of 200 pieces or more that bear a permit imprint.

313 Fees

313.1 Individual Pieces

[Revise 313.1 by changing “letter-post” to “First-Class Mail International” and “parcel post” to “Priority Mail International”:]

The fee for certificates of mailing for ordinary First-Class Mail International items and ordinary Priority Mail International parcels is $1.05 for pieces listed individually on PS Form 3817, Certificate of Mailing. The fee for three or more pieces individually listed on PS Form 3877, Firm Mailing Book, or an approved customer-provided manifest, is $0.35 per piece. Each additional copy of PS Form 3817 or firm mailing bills is available for $1.05.

313.2 Bulk Pieces

[Revise 313.2 by changing “letter-post” to “First-Class Mail International”:]

PS Form 3606, Certificate of Bulk Mailing, is used to specify the total number of identical pieces of ordinary First-Class Mail International that are paid for with regular postage stamps, precanceled stamps, or meter stamps. The following certificate of mailing fees apply:

Up to 1,000 pieces | $5.50
Each additional 1,000 pieces or fraction | $0.60
Duplicate copy | $1.05

* * * * *

320 Insurance

321 Description

[Revise 321 as follows:]

Insurance is provided against loss, damage, or rifling for Priority Mail International parcels. Compensation varies according to the fee paid. For parcels delivered to the addressee in damaged condition or with missing contents, payment is made to the addressee unless the addressee waives payment, in writing, in favor of the sender.

322 Availability

[Revise 322 as follows:]

Insurance is available only for Priority Mail International parcels and only to certain countries. See Individual Country Listings. Insurance is not available for the Priority Mail International Flat-Rate envelope.

* * * * *

324 Processing Requests

324.1 Mailing Receipt and Insurance Number

[Revise 324.11 as follows:]

324.11 General Use

All Priority Mail International parcels must be numbered. Form 2976-A, Customs Declaration and Dispatch Note—CP 72, and the cash register receipt issued at the time of mailing will serve as proof of mailing and proof of insurance. Volume mailers may use PS Form 3877, Firm Mailing Book for Accountable Mail, as the sender's receipt.

* * * * *

[Revise 324.12 as follows:]

324.12 Accepting Clerk's Responsibility

Accepting clerk must:

a. Indicate on Form 2976-A the amount for which the parcel is insured. Write the amount in U.S. dollars in ink in the “Insured Amount (US) block.”

b. Convert the U.S. dollar amount to the special drawing right (SDR) value and enter it in the SDR value block. For example:

INSURED VALUE

$100.00 (U.S.)

68.60 SDR

c. See Exhibit 324.12 for a table showing the conversion of U.S. dollar values up to $600 to SDR equivalents. To determine SDR equivalents above $600, multiply the insured amount, rounded up to the next full dollar, by the conversion factor of 0.6860.

Note: Use the following rates when converting between U.S. dollars and special drawing right (SDR values): $1 U.S. = 0.6860 SDR 1 SDR = $1.46 U.S. ($1.4577 U.S.)

d. Write a bold capital V in the space provided for the insured number as an indicator that additional insurance was purchased.

e. Indicate special contents for fragile liquid and perishable items.

f. Round stamp Form 2976-A in the appropriate place on each copy.

* * * * *

324.2 Marking

324.21 Sender's Responsibility

[Delete 324.22 in its entirety.]

[Renumber Exhibit 324.22 as Exhibit 324.12.]

324.3 Postmarking

* * * * *

[Revise 324.5 to read as follows:]

324.5 Return Receipt

Return receipt service is available to many countries. See individual country listings.

* * * * *

[Revise 325 as follows:]

325 Indemnity Claims and Payments

The sender must submit the original mailing receipt, sender's copy of PS Form 2976-A, Customs Declaration and Dispatch Note—CP72}, as proof of mailing and proof of insurance to file a claim. (See Chapter 9)

* * * * *

330 Registered Mail

331 Description

[Revise 331 by deleting the words “and do not extend uniformly to damage or rifling of contents.”]

332 Availability

[Revise the text to read as follows:]

Customers can purchase registered mail service when they send Priority Mail International flat-rate envelope or First-Class Mail International items, post/postal cards, and free matter for the blind items. Registered items may weigh up to 4 pounds. Registered Mail Service is not available in combination with Priority Mail International parcels, or M-bags to one addressee. See Individual Country Listings for country-specific prohibitions and restrictions.

333 Fees and Indemnity Limits

333.1 Registration Fees

[Revise 333.1 to indicate the new registered fee as follows:]

The registry fee for all countries is $10.15.

333.2 Indemnity Limit

[Revise 333.2 to reflect the 2007 indemnity limit as follows:]

Regardless of the declared value of a registered item, the maximum amount of indemnity payable for loss, damage, or rifling is $43.73.

334 Processing Requests

334.1 Mailing Receipt and Registration Number

* * * * *

334.12 Sender's Responsibility

[Revise 334.12b as follows:]

b. Declare the full value of mail presented for registration. The value declared must be identical to the value stated on Form 2976, Customs Declaration CN22—Sender's Declaration. Items on which identical values are not declared will be refused. (See IMM 123.711)

[Revise item c as follows:]

* * * * *

c. The sender should retain the receipt and must submit it if he or she wishes to file a claim for the registered item (see Chapter 9).

[Revise 334.13 by adding new a and re-lettering current a through d as b through e as follows:]

334.13 Accepting Clerk's Responsibility

Accepting clerk must:

a. Verify that the value declared on Form 3806 and the value declared on Form 2976 are identical. Refuse items on which the declared values are not the same.

* * * * *

334.14 Preparation

[Revise 334.14 as follows:]

Items bearing an address in pencil or any other erasable format must not be accepted for registered mail service.

* * * * *

334.4 Sealing

334.41 Sender's Responsibility

[Revise the first sentence of 334.41 as follows:]

Senders must securely seal all items presented for registration.

* * * * *

[Revise title of 334.42 as follows:]

334.42 Registered Free Matter for the Blind or Other Physically Handicapped Persons

* * * * *

336 Preparation

[Delete 336 in its entirety.]

340 Return Receipt

341 Description

[Revise 341 as follows:]

PS Form 2865, Return Receipt for International Mail (Avis de Reception), is a pink card that is attached to a registered item, an insured parcel, or an Express Mail International item to certain countries (see 221.4), at the time of mailing, and which is removed and signed at the point of delivery and returned to the sender. Return Receipt service provides the sender with evidence of delivery. Return receipts are completed in the country of destination in accordance with its internal regulations, which may not require the addressee's signature except under special circumstances. These receipts are returned to the sender by airmail.

342 Availability

[Revise 342 by deleting the words “recorded delivery” to read as follows:]

Return receipts can be purchased only at the time of mailing and are available only for registered items and insured parcels. Return receipts are also available to a limited number of countries for Express Mail International (see 221.4). Some countries do not admit return receipts or restrict them to registered mail. See Individual Country Listings.

343 Fee

[Revise 343 to reflect that fee is linked to domestic case as follows:]

The fee for a return receipt is $2.15. This fee must be paid in addition to postage and other applicable charges. Return receipt service is available at no charge for Express Mail International to certain countries.

Note: Include the weight of the return receipt when determining the postage for mailing the item.

344 Processing Requests

344.1 Form

344.11 Sender's Responsibility

[Revise 344.11 as follows:]

Sender must enter the return address on the return receipt.

344.12 Accepting Clerk's Responsibility

[Revise 344.12 as follows:]

Accepting clerk must:

a. Record the return receipt fee on the insured or registered mailing receipt.

b. Enter the address of the addressee on the return receipt.

c. Attach the return receipt to the item.

d. Affix and cancel postage equal to the sum of the return receipt fee, postage, and other applicable fees.

* * * * *

[Delete 344.3 in its entirety.]

* * * * *

[Renumber 344.4 as 344.3 and revise text as follows:]

344.3 Return Receipt Improperly Completed or Not Received

If the sender does not receive a return receipt for which a fee was paid, or if the sender receives an improperly completed return receipt, an inquiry may be filed. (See 920 for inquiry procedures.)

350 Restricted Delivery

* * * * *

352 Availability

* * * * *

[Revise item b by deleting “recorded delivery” as follows:]

b. For registered items.

* * * * *

353 Fee

[Revise 353 as follows:]

Fee is $4.10 * * *

[Delete current 360, Recorded Delivery, in its entirety. Reserve 360.]

* * * * *

370 Supplemental Services

* * * * *

371 International Money Orders

371.1 Description

371.11 General

[Revise 371.11 by changing “Global Express Mail Service (EMS)” to “Express Mail International.”]

* * * * *

371.3 Fees

[Revise 371.3 as follows:]

The fee for money orders payable in countries that accept Form MP1 is $3.85 per money order.

372 International Reply Coupons

* * * * *

372.3 Selling Price and Rate of Exchange

[Revise the first sentence in item a as follows:]

a. The selling price of a reply coupon in the United States is $2.00 * * *

[Revise item b by deleting “(including aerogrammes)” and by changing the rate to $0.90 per coupon.]

* * * * *

373 International Business Reply Service

* * * * *

373.4 Fees

[Revise 373.4 as follows:]

a. Envelopes up to 2 ounces: $1.40.

b. Cards: $0.90.

4 Treatment of Outbound Mail

* * * * *

420 Shortpaid and Unpaid Mail

[Change “letter-post” to “First-Class Mail International” and “Global Express Mail” to “Express Mail International” throughout 420.]

* * * * *

[Delete current 442, Recorded Delivery, in its entirety.]

5 Nonpostal Export Regulations

[Change “letter-post” to “First-Class Mail International” and “parcel post” to “Priority Mail International” throughout 5.]

* * * * *

550 Dried Whole Eggs

* * * * *

552 Charges

[Revise the first sentence of 552 as follows:]

A charge of $1.05 * * *

* * * * *

560 Tobacco Seeds and Tobacco Plants

* * * * *

562 Charges

[Revise the first sentence of 562 as follows:]

A charge of $1.05 * * *

6 Special Programs

610 Postal Qualified Wholesaler Program

* * * * *

613 Qualifying as a Wholesaler

613.1 Letter of Request

* * * * *

[Revise the address in 613.1 as follows:]

Executive Director, Global Business Management, U.S. Postal Service, 475 L'Enfant Plz., SW., Rm 4011, Washington, DC 20260-4011.

* * * * *

7 Treatment of Inbound Mail

* * * * *

712 Customs Clearance and Delivery Fees

* * * * *

712.3 Amount of Postal Service Fee

[Revise the text of 712.3 by changing the fee from $4.75 to $5.35.]

* * * * *

730 Shortpaid Mail to the United States

731 Computation of Postage Due

[Revise the handling charge in the example to correspond with the text in 731b. Center T and x within equation as in current IMM as follows:]

b. The receiving exchange office in the United States multiplies the T fraction by the U.S. international letter rate to determine the short paid amount in U.S. currency. This amount, plus a $0.50 handling charge, accounts for the postage-due amount to be collected on delivery. The postage-due formula is:

T shortpaid amount × First-Class Mail International rate

International letter rate of postage to U.S.

* * * +$0.50 handling charge * * *

= Postage due amount

* * * * *

[Revise the title of 750 as follows:]

750 Extra Services

754 Restricted Delivery

754.1 Inbound Registered Mail

[Revise 754.1 as follows:]

Inbound registered mail, accompanied by a return receipt and bearing the notation A Remettre en Main Propre or Restricted Delivery, should be delivered only to the addressee or their authorized agent.

* * * * *

[Delete 755, Recorded Delivery, in its entirety.]

760 Forwarding

762.2 Undeliverable Domestic Mail Bearing U.S. Postage and a Foreign Return Address

* * * * *

[Revise the text of item 762.2 c as follows:]

* * * * *

c. First-Class Mail containing merchandise, Standard Mail items, or Package Services parcels, which bear a foreign return address, must be held at the Post Office of the addressee, while a request for instructions is sent to International Claims, St. Louis ASC, P.O. Box 80146, St. Louis, MO 63180-0146: Requests must include the following information:

(1) Names and addresses of sender and addressee.

(2) Weight of the item and any special services.

(3) Nature and value of contents if known. The International Claims Office will contact the sender for disposition instructions, completion of the required customs forms, and payment of additional postage.

* * * * *

764 Mail of Foreign Origin

* * * * *

764.2 Forwarding to another Country

* * * * *

764.23 Parcels

* * * * *

[Add new 764.232 as follows:]

[Renumber current 764.232 as new 764.233.]

764.232 Delivery to an Alternate Addressee

If the addressee has moved to a third country or if the sender has included instructions for delivery to an alternate addressee in a third country, the Post Office facility must hold the parcel and request instructions from International Claims, St. Louis ASC, P.O. Box 80146, St. Louis, MO 63180-0146. Requests should include the following information:

a. Names and addresses of sender and addressee, or alternate addressee.

b. Weight of the parcel.

c. Whether the parcel is insured.

d. Nature and value of the contents as shown on the customs declaration.

* * * * *

766 Retention Period

766.1 General Procedure

[Revise the text of 766.1 by changing the Domestic Mail Manual reference from D042.1.7 to 508.1.1.7.]

770 Undeliverable Mail

771 Mail of Domestic Origin

* * * * *

[Revise the title of 771.5 as follows:]

771.5 Return Charges for First-Class Mail International

771.51 General Procedure

* * * * *

[Revise 771.51 by changing “letter-post” to “First-Class Mail International.”]

[Revise item a as follows.]

a. First-Class Mail International.

* * * * *

[Revise item d as follows:]

d. First-Class Mail International M-bag.

* * * * *

[Delete items e, f, and g.]

771.52 Exceptions

[Revise items a and b by changing “letter post” to “First-Class Mail International.”]

[Revise the title of 771.6 as follows:]

771.6 Return Charges for Priority Mail International

* * * * *

771.7 Handling of Returned Parcels

771.71 Refused by Sender

[Revise 771.71 by changing “parcel post” to “Priority Mail International.”]

* * * * *

[Add new 771.73 as follows:]

771.73 Sender Has Moved to Another Country

If the sender has moved to another country, the Post Office facility must hold the parcel and request instructions from International Claims, St. Louis ASC, P.O. Box 80146, St. Louis, MO 63180-0146. Requests should include the following information:

a. New address of the sender.

b. Amount of return charges due on the parcel.

c. Weight of the parcel.

d. Whether the parcel is insured.

e. Nature and value of the contents as shown on the customs declaration.

* * * * *

780 Items Mailed Abroad by or on Behalf of Senders in the United States

* * * * *

783 Advance Payment Required

783.1 Sample Mailpiece

[Revise 783.1 to change room number and plus for code in address to 5726.]

* * * * *

9 Inquiries, Indemnities, and Refunds

* * * * *

920 Inquiries and Claims

921 Inquiries

* * * * *

921.2 Initiating an Inquiry

[Revise the first two sentences in 921.2 as follows:]

Inquiries can be initiated for Global Express Guaranteed (GXG) items, Express Mail International items, registered items, and insured and ordinary parcels. Inquiries are not accepted for ordinary letters, Priority Mail International flat-rate envelope items, or M-bags.* * *

Exhibit 921.2

Time Limits for Inquiries

[Revise the product or Extra Services column and the note in Exhibit 921.2 as follows:]

Product | Who | When (from mailing date): No sooner than | When (from mailing date): No later than
Global Express Guaranteed | U.S. Sender Only | 3 days | 30 days
Express Mail International | U.S. Sender Only | 3 days | 90 days
Express Mail International with Guarantee Service | U.S. Sender Only | 3 days | 30 days
Registered items, insured or ordinary parcels | Sender or Addressee | 7 days | 6 months
*Inquires are not accepted on ordinary letters, Priority Mail International flat-rate envelopes or M-bags.

921.3 How To Initiate

[Revise the text and change item d as follows:]

Customers must call the International Inquiry Center at 800-222-1811 within the time limits listed in Exhibit 921.2 to initiate an inquiry. Customers will be asked to provide information regarding the mailing, including, but not limited to the following:

a. Mailing receipt number or barcode number of the article.

b. Names and addresses of the mailer and the addressee.

c. Date of mailing.

d. Description of contents.

921.4 Inquiry Process

[Revise the text of 921.4 as follows:]

After the Postal Service customer provides the International Inquiry Center with the relevant mailing information, the International Inquiry Center will correspond with the appropriate foreign post and advise the customer of the results of the inquiry. Customers must allow foreign posts approximately 60 days to research and respond to the International Inquiry Center for inquiries on registered items, and insured and ordinary parcels. When there is a determination that an item has been lost, the International Inquiry Center will mail a claim packet to the customer. The packet will include a letter of instruction on how to complete and submit the claim.

921.5 General Procedures

921.51 Nondelivery

[Revise the text of 921.51 as follows:]

The U.S. Postal Service will initiate an inquiry within the time frames specified in 921.2 with the destination postal administration in any case involving a GXG, Express Mail International, registered item, or insured or ordinary parcel that has not been delivered. Inquiries are not accepted for Priority Mail International flat-rate items, ordinary letters, or M-bags.

921.52 Return Receipts Improperly Completed or Not Received

[Revise the text of 921.52 to read as follows:]

If the sender receives an improperly completed return receipt (see 341 for completion at destination) or a return receipt is not received, the sender may go to any Post Office and request a refund of the return receipt special service fee. If the sender wants to inquire about the delivery of the article, the sender must call 800-222-1811 to initiate an inquiry (see 921.1).

921.53 Rifled Parcels

[Revise title and text of 921.53 as follows:]

921.53 Damaged or Rifled Parcels, Registered Mail, and Express Mail International

Customers must go to a Post Office to report instances of damaged or rifled items. Postal personnel should complete PS Form 673, Report of Rifled Parcel, in accordance with POM 169.3 or Form 2856, Damage Report of Insured Parcel and Contents, in accordance with POM 146.112 for international and/or domestic articles as applicable.

* * * * *

922 Claims

922.1 General Description

[Revise the first sentence in 922.1 as follows:]

A claim is a request by a U. S. Postal Service customer for an indemnity payment that resulted in the loss, damage, or rifling of a GXG, Express Mail International, registered item, or insured or ordinary parcel. See 221.3, 237, 320, 330, and country listings for information on indemnity limits.* * *

922.2 Filing a Claim

[Revise 922.2 as follows:]

Claims may be filed for GXG, Express Mail International, registered items, and insured and ordinary parcels as noted in Exhibit 922.2. Claims may not be filed for ordinary letters or M-bags. Claims for registered items, and insured and ordinary parcels may not be filed until after an inquiry has been completed in accordance with the procedures in 921. Claims for rifled or damaged articles should be filed immediately. Claims for registered items, insured, and ordinary parcels delivered to the addressee in damaged condition or with missing contents are payable only to the addressee, unless the addressee waives their right to payment, in writing, in favor of the sender. All claims for inbound international registered items and insured and ordinary parcels received in damaged condition or with missing contents must be supported by Form 2856. If the addressee does not accept delivery and the item is returned to the sender, the sender will be the payee.

Filing Claims

[Revise the Product and Who column and the note in Exhibit 922.2 as follows:]

Product | Who | Lost article | How damaged/rifled
GXG and Express Mail International | U.S. Sender Only | 800-222-1811 | 1-800-222-1811.
GXG and Express Mail International (article returned to sender) | U.S. Sender Only | N/A | Any Post Office* (PS Form 2855).
Registered item, insured parcel, ordinary parcel | U.S. Sender or Addressee | 800-222-1811 | Any Post Office* (PS Form 2855).
*Must present the article, mailing container, wrapping, packaging, and any other contents received in damaged condition or with missing contents to a post office immediately.

* * * * *

922.3 Claims Process

* * * * *

922.31 Proof of Mailing

* * * * *

[Revise text of 922.31 and items a (2), (3), and (4) to read as follows:]

Indemnity claims for GXG, Express Mail International, registered mail, and insured and ordinary parcels must be supported as follows:

a. If mailed in the United States:

(1) For Global Express Guaranteed items, the original receipt of the GXG Air Waybill/Shipping Invoice.

(2) For Express Mail International items, PS Form 2861, Express Mail International Service Inquiry, received from the International Inquiry Center.

(3) For registered items and insured parcels, the original mailing receipt and sender's copy of PS Form 2976-A, Customs Declaration and Dispatch Note, CP 72 issued at the time of mailing. Copies are not acceptable.

(4) For ordinary parcels, the customer copy of PS Form 2976-A, Customs Declaration and Dispatch Note—CP 72.

[Add a new note after item b as follows:]

b. If mailed from a foreign country: The original mailing receipt if available, the customs label, the wrapper, and any other markings or endorsements on the mailing container that indicate how it was sent.

Note: Mailing particulars must also be verified with the country of origin before a claim can be settled.

* * * * *

922.4 Processing Claims for Rifled or Damaged Articles

* * * * *

922.42 Postal Service

* * * * *

[Revise the text of 922.42b and delete the last sentence “There is no fee for processing a claim.” to read as follows.]

Postal Service personnel must:

a. Complete sections III and IV of PS Form 2855.

b. Prepare a damage report on Form 2856, Damage Report of Insured Parcel and Contents, detailing the condition of the item at the time of delivery, and indicate whether or not the item was properly packaged to withstand normal handling in international mail.

c. Attach the damage report and the documentation described in 922.3 to the claim.

d. Send PS Form 2855 and related documents, including the customs label and the wrapper, if appropriate, to: International Claims, St. Louis ASC, PO Box 80146, St. Louis, MO 63180-0146.

* * * * *

923 Disposition of Damaged Mail

[Revise the introductory sentence of 923 and item b to read as follows:]

Dispose of damaged registered mail, insured parcels, and ordinary parcels for which claims have been filed as follows:

* * * * *

b. International insured parcels, ordinary parcels, and Canadian registered mail:

* * * * *

930 Indemnity Payments

931 Adjudication and Approval

* * * * *

931.2 International Claims

[Revise title and text of 931.21 by changing “Parcel Post” to “Parcels”, and text as follows:]

931.21 Indemnity Claims for International Registered Mail, Insured Parcels, and Ordinary Parcels of U.S. and Foreign Origin

Indemnity Claims relating to international registered mail, insured and ordinary parcels of both U.S. and foreign origin are adjudicated by the St. Louis Accounting Service Center.

931.22 Country of Origin Pays Indemnity

[Revise 931.22 as follows:]

Payment is made as follows:

a. Express Mail claims are paid by the country of origin to the sender. Payments to U.S. senders will by made by the U.S. Postal Service.

b. Indemnity for the loss of registered mail, insured parcels and ordinary parcels is paid by the country of origin to the sender. Payments to U.S. senders will be made by the U.S. Postal Service. The sender may waive their right to payment, in writing, in favor of the addressee. Payment in such cases will be made by the destination administration.

c. Claims for items delivered in damaged condition or with missing contents may be made to the addressee by the destination administration. If the addressee waives their right to payment, in writing, in favor of the U.S. sender, payment will be made to the sender by the U.S. Postal Service.

d. Claims for items mailed in foreign administrations that are delivered in damaged condition or with missing contents may be paid to the addressee. Payments will be made to the U.S. addressee by the U.S. Postal Service. The addressee may waive their right to payment in favor of the sender. Payment in such cases will be made by the origin administration.

* * * * *

[Revise title of 932 as follows:]

932 General Exceptions To Payment—Registered Mail, Priority Mail International Insured Parcels, and Priority Mail International Ordinary Parcels

* * * * *

[Revise title of 933 by changing “Parcel Post” to “Parcels.”]

933 Payments for Priority Mail International Insured Parcels and Priority Mail International Ordinary Parcels

933.1 General Provisions

[Revise title and text of 933.11 as follows:]

933.11 Insured Parcels

Indemnity may be paid for loss, rifling, or damage, based on the actual value of articles at the time and place of mailing.

933.12 Indemnity Will Not Be Paid

[Revise third sentence of item d(3) to read as follows:]

In addition to the general exceptions to payment described in 932, indemnity will not be paid:

d. For parcels that:

(3) Were not posted in the manner prescribed. In the event of loss, rifling, or damage of mail erroneously accepted for insurance to other countries, limited indemnity may be paid as if it had been addressed to a domestic destination, i.e. on the basis of the indemnity limits for domestic insured mail. If postage was erroneously collected at other than a parcel rate, but the parcel was otherwise properly accepted for insurance, indemnity may be paid pursuant to the general provisions of this section and the special provisions of 933.2.

* * * * *

[Revise titles of 933.13 and 933.14 by changing “Parcel Post” to “Parcels.”]

933.13 Ordinary Priority Mail International Parcels—Indemnity Limitations

* * * * *

933.14 Ordinary Priority Mail International Parcels—Exceptions to Indemnity

* * * * *

934 Payments for Registered Mail

934.1 General Provisions

* * * * *

[Revise title and text of 934.12 as follows:]

934.12 Parcels Erroneously Accepted as Registered Mail

If a parcel is accepted in error as registered mail, indemnity may be paid under the conditions in 934.2.

934.13 Indemnity Will Not Be Paid

* * * * *

[Revise item b to read as follows:]

b. To anyone in the United States, other than the addressee, for items delivered in damaged condition or with missing contents. The addressee may waive payment, in writing, in favor of the sender.

* * * * *

934.2 Special Provisions

[Revise amount payable in 934.2 to “$43.73.”]

* * * * *

[Revise 935 by changing “Global Express Mail” and “Global Express Mail (EMS)” to “Express Mail International” throughout.]

* * * * *

940 Postage Refunds

[Revise 941 by changing “letter-post” and “parcel post” to “First-Class Mail International” and Priority Mail International” throughout.]

* * * * *

[Revise 942 by changing “Global Express Mail” and “EMS” to “Express Mail International” throughout.]

* * * * *

942 Postage Refunds for Express Mail International Items

* * * * *

942.5 Unallowable Refund—Express Mail International with No Service Guarantee

* * * * *

942.53 Consequential Damages

[Add new last sentence to 942.53 as follows:]

See DMM 609 and 503, and IMM 221.3 and 935.2 for limitations of indemnity coverage.

943 Processing Refund Applications

943.1 Items Originating in the United States

[Revise first sentence 943.1 as follows:]

Requests for refunds for ordinary letters, registered mail, Priority Mail International, Express Mail International, and Express Mail International with Guarantee service originating in the United States are handled as follows:* * *

[Revise item b by deleting “Recorded Delivery” and changing “parcel post” to “parcel.”]

[Revise item c by changing “EMS” to “Express Mail International.”]

* * * * *

Neva R. Watson,
Attorney, Legislative.

[FR Doc. E7-6048 Filed 4-3-07; 8:45 am]

BILLING CODE 7710-12-P